DEPARTMENT OF TRANSPORTATION

Pipeline and Hazardous Materials Safety Administration

Office of Hazardous Materials Safety; Actions on Exemption Applications

AGENCY: Pipeline and Hazardous Materials Safety Administration, DOT.

ACTION: Notice of actions on exemption applications.

SUMMARY: In accordance with the procedures governing the application for, and the processing of, exemptions from the Department of Transportation's Hazardous Material Regulations (49 CFR part 107, subpart B), notice is hereby given of the actions on exemption applications in October 2003 to December 2004. The mode of transportation involved are identified by a number in the “Nature of Application” portion of the table below as follows: 1-Motor vehicle, 2-Rail freight, 3-Cargo vessel, 4-Cargo aircraft only, 5-Passenger-carrying aircraft. Application numbers prefixed by the letters EE represent applications for Emergency Exemptions. It should be noted that some of the sections cited were those in effect at the time certain exemptions were issued.

Issued in Washington, DC, on April 25, 2005.
R. Ryan Posten,
Exemptions Program Officer, Office of Hazardous Materials Safety Exemptions & Approvals.

Exemption No. | Docket No. | Applicant | Regulation(s) | Nature of exemption thereof
MODIFICATION EXEMPTION GRANTED
13133-M |  | U.S. Department of Energy, Albuquerque, NM | 49 CFR 172.320; 173.54(a); 173.56(b); 173.57; 173.58; 173.62 | To reissue the exemption originally issued on an emergency basis for the transportation of up to 25 grams of unapproved explosives, classed as Division 1.4E, when shipped in a special shipping container.
11650-M |  | Autoliv ASP, Inc., Ogden, UT | 49 CFR 178.65-9 | To modify the exemption to authorize a newly designed airbag inflator device with a maximum service pressure of 8500 PSIG for use as a component of a automobile vehicle safety system.
8131-M |  | National Aeronautics and Space Administration (NASA), Houston, TX | 49 CFR 173.302(d); 173.34(d); 173.301(d); 175.3 | To modify the exemption to add additional serial numbers of authorized cylinders.
12104-M | RSPA-98-4039 | Mitsubishi Polyester Film, Greer, SC | 49 CFR 174.67(i) | To modify the exemption to upgrade loading procedures and drawings for the DOT Specification tank cars transporting Class 9 materials.
12927-M | RSPA-02-11628 | Tri-Wall, A Weyerhauser Business, Butler, IN | 49 CFR 173.12(b)(2)(i) | To modify the exemption to authorize cargo vessel as an additional mode for the transportation of various waste hazardous materials.
12995-M | RSPA-02-12220 | The Dow Chemical Company, Midland, MI | 49 CFR 173.306(a)(3)(v) | To modify the exemption to authorize the transportation of a Division 2.2 material in DOT 2Q Specification non-refillable containers.
13032-M | RSPA-02-12442 | CONAX Florida Corporation, St. Petersburg, FL | 49 CFR 178.65 | To reissue the exemption originally issued on an emergency basis for the use of non-DOT specification, non-refillable composite pressure vessels for the transportation of Division 2.2 materials.
13100-M | RSPA-02-13244 | Aztec Peroxides, Elyria, OH | 49 CFR 172.102(c)(4) IB52 | To reissue the exemption originally issued on an emergency basis for the transportation of a Division 5.2 material in a UN31HA1 intermediate bulk container (IBC).
13124-M | RSPA-02-13421 | Brenntag Md-South, Inc., Henderson, KY | 49 CFR 172.101 special provision IB3 | To reissue the exemption originally issued on an emergency basis for the transportation of certain Class 8 materials in UN31H1 or UN31H2 intermediate bulk containers (IBC).
12782-M | RSPA-01-10318 | Air Liquide America L.P., Houston, TX | 49 CFR 173.301(g)(1) | To modify the exemption to authorize the transportation of certain Division 2.2 and 2.3 materials in DOT Specification cylinders equipped with plastic valve protection caps.
8554-M |  | American West Explosives, Inc., Springfield, MO | 49 CFR 173.93; 173.114a; 173.154 | To modify the exemption to authorize the transportation of a Class 8 material in a specialized container mounted on a bulk truck.
9778-M |  | Baker Atlas, Houston, TX | 49 CFR 173.304; 173.306 | To modify the exemption to authorize the transportation of an additional Class 7 material in non-DOT specification packaging.
11380-M |  | Baker Atlas (Houston Technology Ctr), Houston, TX | 49 CFR 173.34(d); 178.37-5; 178.37-13; 178.37-15 | To modify the exemption to authorize changes to an existing tank design assembly and the addition of a new tank design for the transportation of Division 2.1 materials.
12056-M | RSPA-98-3730 | Department of Defense (MTMC), Fort Eustis, VA | 49 CFR 173.226; 173.336 | To modify the exemption to authorize two additional destination facilities and authorize an increased number of round trip shipments containing Division 2.3 and 6.1 materials.
12130-M | RSPA-98-4386 | FIBA Technologies, Inc., Westboro, MA | 49 CFR 173.318; 176.30; 176.76(h); 178.338 | To modify the exemption to authorize optional inspection access hole (manholes) for the non-DOT specification insulated portable tanks transporting certain Division 2.2 materials.
13102-M | RSPA-02-13784 | Watts Regulator Company, North Andover, MA | 49 CFR 173.150(b); 173.222(c); 173.306(a); 173.322 | To reissue the exemption originally issued on an emergency basis for the transportation of certain non-DOT specification packagings, described as actuators, charged with limited quantities of various hazardous materials.
13127-M | RSPA-02-13477 | American Pacific Corporation, Cedar City, UT | 49 CFR 172.102(c) SP IB6 | To reissue the exemption originally issued on an emergency basis for the transportation of certain Division 5.1 materials in lined flexible intermediate bulk containers (FIBC).
9929-M |  | Orbital Sciences Corporation, Dulles, VA | 49 CFR 172.101; 173.62 | To modify the exemption to update the list of authorized transporters and airports for the transportation of certain Division 1.3C materials in unauthorized packagings that exceed the quantity limitation.
9419-M |  | FIBA Technologies, Inc., Westboro, MA | 49 CFR 173.302(c)(2); 173.34(e); Part 107, Subpart B, Appendix B; 173.302(c)(3); 173.302(c)(4) | To modify the exemption to authorize the use of DOT Specification 3AX cylinders that are retested by means other than the hydrostatic retest for the transportation of certain gases.
9421-M |  | Taylor-Wharton (Gas & Fluid Control Group), Harrisburg, PA | 49 CFR 173.302; 173.304; 173.301(h); 173.34(a)(1); 178.37; 175.3 | To modify the exemption to authorize an alternative immersion UE test system for non-DOT specification steel cylinders transporting certain Division 2.1, 2.2 and 2.3 materials.
9706-M |  | Taylor-Wharton (Gas and Fluid Control Group), Harrisburg, PA | 49 CFR 173.34(a)(1); 173.301(h); 173.302; 173.304; 178.37; 175.3 | To modify the exemption to authorize an alternative immersion UE test system for non-DOT specification steel cylinders transporting certain Division 2.1, 2.2 and 2.3 materials and eliminating the Fracture Toughness Test requirement.
10049-M |  | Martin Transport, Inc., Kilgore, TX | 49 CFR 173.318; 173.338; 173.320; 177.840 | To modify the exemption to authorize the transportation of additional Division 2.1 materials and the use of additional polyurethane insulated non-DOT specification cargo tanks.
10143-M |  | Eurocom, Inc., Irving, TX | 49 CFR 173.306(a); 178.33a | To modify the exemption to authorize the transportation of additional Division 2.2 materials in a non-refillable non-DOT specification inside metal container.
11194-M |  | Carleton Technologies, Inc., Westminster, MD | 49 CFR 173.302(a); 173.304(a); 175.3 | To modify the exemption to authorize the transportation of additional Division 2.2 materials in a non-DOT specification fully wrapped carbon-fiber reinforced aluminum lined cylinder.
11580-M |  | Columbiana Boiler Co., Columbiana, OH | 49 CFR 173.40(a); 173.158(b)(g) and (h); 173.192(a); 173.201; 173.202 173.203; 173.226; 173.227; 173.336 | To modify the exemption to authorize changes to the hydrostatic and physical test requirements for qualification of the non-DOT specification stainless steel cylinders.
12698-M | RSPA-01-9652 | Integrated Environmental Services, Inc., Atlanta, GA | 49 CFR 173.34(d)(e); 173.115(a)(b); 173.304(a) | To modify the exemption to authorize design changes to the non-DOT specification full open head, steel/stainless steel salvage cylinders for the transportation of various Classes/Divisions of hazardous materials.
12838-M | RSPA-01-10859 | City Machine & Welding, Inc., Amarillo, TX | 49 CFR 173.34; 173.302 | To modify the exemption to authorize design changes to the non-DOT Specification 3A cylinders, with revised diameter/wall thickness requirements, for the transportation of certain Division 2.1, 2.2 and 2.3 materials.
13104-M | RSPA-02-13279 | Consumers Energy (Big Rock Point Restoration Proj), Charlevoix, MI | 49 CFR 173.403; 173.427 | To modify the exemption to authorize the use of an alternative closure material for the steam drum nozzle as part of non-DOT specification packaging for the transportation of Class 7 material.
13144-M | RSPA-02-13718 | Baker Petrolite, Sugar Land, TX | 49 CFR 173.226(a) | To reissue the exemptions originally issued on an emergency basis and to authorize continued use of the DOT Specification 4BW240 welded steel cylinders equipped with locking ball valves and a pressure relief device for the transportation of a Division 6.1 material.
10047-M |  | Taylor-Wharton (Gas & Fluid Control Group), Harrisburg, PA | 49 CFR 173.302(a); 173.304; 173.301(h); 178.37; 173.34(a)(1); 175.3 | To modify the exemption to authorize an alternative immersion UE test system for non-DOT specification steel cylinders transporting certain Division 2.1, 2.2 and 2.3 materials and eliminating the Fracture Toughness Test requirement.
13163-M | RSPA-02-13801 | Pacific Bio-Material Management, Inc., Fresno, CA | 49 CFR 173.196(b); 173.196(e)(2)(ii) | To reissue the exemption originally issued on an emergency basis for the transportation of certain Division 6.2 materials in specially designed packaging.
10232-M |  | Sexton Can Company, Inc., Cambridge, MA | 49 CFR 173.304 | To modify the exemption to authorize a capacity increase to 40 cubic inches of the non-refillable, non-DOT specification container for the transportation of Division 2.2 materials.
11691-M |  | Cott Concentrates, Columbus, GA | 49 CFR 176.83(d); 176.331; 176.800(a) | To modify the exemption to authorize the transportation of an additional Class 8 material via cargo vessel.
11970-M | RSPA-97-2993 | ExxonMobil Chemical Company, Houston, TX | 49 CFR 172.101; 178.245-1(c) | To modify the exemption to authorize the transportation of a hazardous material using an alternative shipping description for Division 4.2 materials with a Division 4.3 subsidiary hazard in non-DOT specification steel portable tanks.
11670-M |  | Schlumberger-Oilphase, Dyce, Aberdeen, Scotland, UK | 49 CFR 178.36(3A) | To modify the exemption to authorize the use of the two newly designed non-DOT specifications oil well sampling cylinders with an increased service pressure to 25,000 psig for the transportation of Division 2.1 materials.
13143-M | RSPA-02-13568 | GS Battery USA, Inc., City of Industry, CA | 49 CFR 178.159(g)(h) | To reissue the exemption originally issued on an emergency basis for the transportation of a Class 8 material in non-DOT specification packaging.
13187-M |  | Syncor Radiation Mgmt, Cleveland, OH | 49 CFR 173.302 | To reissue the exemption originally issued on an emergency basis for the use of non-DOT specification packaging for the transportation of Division 2.2 materials.
10704-M |  | Terum Cardiovascular Systems, Tustin, CA | 49 CFR 173.302(a); Part 172, Subpart C, E and F; Part 172; Part 174; Part 177 | To modify the exemption to authorize the transportation of an additional Division 2.2 material in DOT Specification 2Q containers.
13048-M | RSPA-02-12808 | U.S. Department of Energy, Richland, WA | 49 CFR 173.244 | To modify the exemption to authorize an alternative disposal site for the one-time, one-way transportation of a Division 4.3 material in a non-DOT specification containment system for disposal.
13170-M |  | Premier Industries, Fridley, MN | 49 CFR 173.302a(1) | To reissue the exemption originally issued on an emergency basis for the transportation of a Division 2.2 material in a non-DOT specification pressure vessel assembly.
12112-M | RSPA-98-4322 | Kidde Aerospace, Wilson, NC | 49 CFR 173.301(1) | To modify the exemption to authorize the use of a non-DOT specification steel cylinder used as a component in aircraft of foreign manufacture for the transportation of Division 2.2 materials.
12068-M | RSPA-98-3850 | Sea Launch Company, L.L.C., Long Beach, CA | 49 CFR Part 172 Subparts C, D, E, and F; 173.62; Part 173 Subparts E, F and G | To modify the exemption to authorize the transportation of an additional Class 3 material contained as part of the launch vehicle with and without payload.
4884-M |  | Matheson Tri-Gas, Inc., East Rutherford, NJ | 49 CFR 175.3; 178.61; 173.304; 173.201; 173.202; 173.302; 173.323 | To modify the exemption to authorize alternative packaging under certain segregation scenarios when transported by private carrier.
6614-M |  | Auto-Chlore System, Memphis, TN | 49 CFR 173.202; 173.203 | To modify the exemption to authorize the transportation of Class 3, Division 5.1 and additional Class 8 materials in non-DOT specification polyethylene bottles placed in a polyethylene crate.
11990-M | RSPA-97-3098 | Taylor-Wharton, Huntsville, AL | 49 CFR 173.201(c); 173.202(c); 173.302(a)(1); 173.304(a)(1); 175.3; 178.35-(e); 178.35-(f), 178.36-(a)(1), 178.36(b); 178.36-(g), 178.36-(j)]; 178.36-(m) | To modify the exemption to authorize the use of non-DOT specification oil well sampling cylinders without pressure relief devices or burst discs and the transportation of additional Division 2.1 materials.
13216-M |  | General Motors Corps./Autoliv ASP, Inc., Ogden, UT | 49 CFR 172.704(a)(1) | To reissue the exemption originally issued on an emergency basis for the shipment of “recalled” airbag modules from auto dealerships without general awareness/familiarization training.
12122-M | RSPA-98-4313 | Atlantic Research Corporation, Knoxville, TN | 49 CFR 173.301(h); 173.302; 173.306(d)(3) | To modify the exemption to eliminate the requirement for the 100% radiographic inspection of the non-DOT specification pressure vessel longitudinal weld seam used as a component of automobile vehicle safety systems.
3216-M |  | DuPont SHE Excellence Center, Wilmington, DE | 49 CFR 173.314(c); 179.301 | To modify the exemption to authorize the transportation of a Class 8 material in non-DOT specification multi-unit tank car tanks.
8995-M |  | BASF Corporation, Mount Olive, NJ | 49 CFR 173.315(a)(1); 174.63(c)(1) | To modify the exemption to authorize the transportation of a Class 3 material in a non-DOT specification portable tank.
13116-M | RSPA-02-13306 | Chromatogrpahy Research Supplies, Inc., Louisville, KY | 49 DCFR 173.151(b) | To modify the exemption to clarify shipping requirements for the transportation of small quantities of self-heating solids in gas purifier system filters.
13217-M | RSPA-03-14948 | Belshire Environmental Services, Inc., Lake Forest, CA | 49 CFR 173.202 | To reissue the exemption originally issued on an emergency basis for the transportation of Class 3 materials in non-DOT specification packages.
12155-M | RSPA-98-4558 | S&C Electric Company, Chicago, IL | 49 CFR 172.301(c); 173.304 | To modify the exemption to authorize new design change devices and higher service pressure for the non-DOT specification pressure vessel.
12442-M | RSPA-00-7208 | Cryogenic Vessel Alternatives, Mont Belvieu, TX | 49 CFR 178.318; 176.76(g)(1) | To modify the exemption to authorize the use of alternative cryogenic vessel models of the same diameter, length and volume.
1269-M | RSPA-01-8853 | Western Sales & Testing of Amarillo, Inc., Amarillo, TX | 49 CFR 173.34(e) | To modify the exemption to upgrade the Senior Review Technologist certification and revise the marking requirements for retester symbols and certification dates.
13057-M | RSPA-02-12819 | Minerals Technologies, Inc., Easton, PA | 49 CFR 172 Subparts D, E and F; 173.24(c) Subparts E and F of Part 173 | To modify the exemption to authorize the transportation of additional Division 4.1, 4.3 and 6.1 materials contained in the core of a continuous roll of steel tubing.
13088-M | RSPA-02-13042 | Electron Transfer Technologies, Inc., Edison, NJ | 49 CFR 173.40; 173.192; 178.604 | To modify the exemption to authorize the transportation of certain Division 2.3 materials via cargo aircraft which are not presently authorized in the Hazardous Materials Table.
13207-M | RSPA-03-15068 | BEI Hawaii, Honolulu, HI | 49 CFR 173.32(f)(5) | To reissue the exemption originally issued on an emergency basis for the transportation of a Class 8 material in DOT Specification IM 101 portable tanks that do not conform to the filing density requirements.
11073-M |  | E.I. DuPont de Nemours and Company, Inc., Wilmington, DC | 49 CFR 172.102(c)(3), Special Provisions B14, B74; 179.101-1 | To modify the exemption to authorize the transportation of an additional Class 8 material in DOT Class 112S tank cars.
10631-M |  | U.S. Department of Defense, Fort Eustis, VA | 49 CFR 173.243; 173.244 | To modify the exemption to authorize a change to the driving experience requirement when transporting certain Class 8 and Division 6.1 materials in DOT Specification MC-338 cargo tanks and to update various paragraphs to coincide with the Hazardous Materials Regulations as currently written.
7465-M |  | State of Alaska (Dept. of Transp. & Public Facil.), Juneau, AK | 49 CFR Part 172; 173.304; 176.83; Part 176 Subpart H; 176.905(l); 173.119 | To modify the exemption to authorize the construction and use of an additional stowage vessel for the transportation of vehicles with attached cylinders of liquefied petroleum gas.
12855-M | RSPA-01-10914 | KRATON Polymers U.S. LLC (Belpre Plant), Belpre, OH | 49 CFR 173.240; 172.302(c) | To modify the exemption to authorize the use of similar non-DOT specification pressure vessels (stainless steel heat exchangers) containing Class 3 materials.
11537-M |  | Burlington Chemical Co., Inc., Burlington, NC | 49 CFR 177.834(h) | To modify the exemption to authorize the transportation of additional Class 8 materials in UN31H2 or UN31HA1 Intermediate Bulk Containers.
7041-M |  | Albemarle Corporation, Baton Rouge, LA | 49 CFR 173.134(a)(6) | To modify the exemption to authorize the transportation of a Division 4.2 and 4.3 material in non-DOT specification cargo tanks.
8723-M |  | Dyno Nobel, Inc., Salt Lake City, UT | 49 CFR 172.101; 173.62; 173.242; 176.83; 177.848 | To modify the exemption to authorize the transportation of an additional Division 5.1 material in motor vehicles and cargo tanks.
8815-M |  | Austin Powder Company, Cleveland, OH | 49 CFR 173.62 | To modify the exemption to authorize transportation by common or contract carrier of certain Division 1.5D explosives in a cement mixer type motor vehicle.
10880-M |  | Austin Powder Company, Cleveland, OH | 49 CFR 173.114; 172.101 column (8c); 173.35(b) | To modify the exemption to authorize transportation by common or contract carrier of certain Division 1.1, 1.4 and 1.5 explosive materials in dedicated loads.
11494-M |  | Atlantic Research Corp. (Auto. Products Group), Knoxville, TN | 49 CFR 173.301(h); 173.302; 173.306(d)(3) | To modify the exemption to authorize the transportation of a Class 9 material in a non-DOT specification cyclinder (pressure vessel) for use as a component of an automobile vehicle safety system.
12122-M | RSPA-98-4313 | Atlantic Research Corp. (Auto. Products Group), Knoxville, TN | 49 CFR 173.301(h); 173.302; 173.306(d)(3) | To modify the exemption to authorize transportation of a Class 9 material in a non-DOT specification cylinder (pressure vessel) for use as a component of an automobile vehicle safety system.
12622-M | RSPA-01-8831 | Atlantic Research Corp. (Auto. Products Group), Knoxville, TN | 49 CFR 172.200; 172.500 | To modify the exemption to authorize the transportation of a Class 9 material by contract carrier motor vehicle without the required shipping papers and placarding.
12677-M | RSPA-01-9375 | Austin Powder Company, Cleveland, OH | 49 CFR 177.835(c)(3); 177.848(e)(2); 173.202 | To modify the exemption to authorize transportation by private carriage or contract carrier of certain Division 1.1, 1.4, 1.5, 5.1 and Class 8 materials.
12698-M | RSPA-01-9652 | Integrated Environmental Services, Inc., Atlanta, GA | 49 CFR 173.34(d)(e); 173.115(a)(b); 173.304(a) | To modify the exemption to authorize transportation of a Class 4 material in a non-DOT specification salvage cylinder for overpacking damaged or leaking cylinders.
3302-M |  | Air Products & Chemicals, Inc., Allentown, PA | 49 CFR 173.302; 175.3 | To modify the exemption to authorize the construction of a newer lightweight outer protective shipping case for non-DOT specification sampling bottles transporting certain Division 2.2 materials.
6263-M |  | Amtrol, Inc., West Warwick, RI | 49 CFR 173.302(a)(1) | To modify the exemption to authorize an increased working pressure to 300 psig for the non-DOT specification pressure vessels and a change in the pressure vessel testing requirements.
10019-M |  | Structural Composites Industries, Pomona, CA | 49 CFR 173.302(a)(1); 175.3 | To modify the exemption to authorize the transportation of an additional Division 2.2 material in non-DOT specification fiber reinforced plastic (FRP) full wrapped composite (FC) cylinders.
10319-M |  | Amtrol, Inc., West Warwick, RI | 49 CFR 173.306(g); 173.302(a)(1) | To modify the exemption to authorize additional pressure vessel model numbers and eliminate the hydrostatic pressure testing requirement.
12756-M | RSPA-01-10112 | Bechtel Jacobs Company LLC, Oak Ridge, TN | 49 CFR 173 and 178 | To modify the exemption to authorize a change to the destination for delivery requirement to allow operational flexibility for treatment of the Division 1.1, 4.1 and 5.2 materials before their final destination.
12827-M | RSPA-01-10586 | Bechtel Jacobs Company LLC, Oak Ridge, TN | 49 CFR 172.101; 173.56 | To modify the exemption to authorize a change to the destination for delivery requirement to allow operational flexibility for treatment of various hazardous materials before their final destination.
13080-M | RSPA-02-12999 | Pressed Steel Tank Co., Milwaukee, WI | 49 CFR 173.300a; 173.301(h); 173.304; 173.34(e) | To modify the exemption to authorize a maximum filling limit of 106% for the non-DOT specificaiton cylinders used to transport a Division 2.3 material and to upgrade/revise cylinder markings and drawings.
12871-M | RSPA-01-11072 | Southern Calif. Edison-San Onofre Nuclear Gen Stn, San Clemente, CA | 49 CFR 173.427(a); 173.427(b)(c); 173.403; 173.411; 173.465(c) and (d) | To modify the exemption to authorize route changes for the one-time transportation of a package containing a nuclear generating-station reactor pressure vessel having Class C waste internal components by cargo vessel and motor vehicle for disposal.
13270-M |  | Takata Corporation, Minato-Ku Tokyo 106-8510, JA | 49 CFR 173.301(a); 173.302(a); 175.3 | To reissue the exemption originally issued on an emergency basis for the transportation of Divison 2.1 and 2.2 materials in non-DOT specification pressure vessels.
13230-M | RSPA-03-15116 | FIBA Technologies, Inc., Westboro, MA | 49 CFR 178.35; 178.37; 178.45 | To reissue the exemption originally issued on an emergency basis for the use of non-DOT specification cylinders transporting Division 2.1, 2.2. and 2.3 materials.
13258-M | RSPA-03-15629 | FIBA Technologies, Inc., Westboro, MA | 49 CFR 178.35; 178.37; 178.45 | To reissue the exemption originally issued on an emergency basis for the use of non-DOT specification cylinders transporting Division 2.1, 2.2 and 2.3 materials.
11494-M |  | Atlantic Research Corp. (Auto. Products Group), Knoxville, TN | 49 CFR 173.301(h); 173.302; 173.306(d)(3) | To modify the exemption to authorize passenger-carrying aircraft as an additional mode of transportation for Class 9 and Division 2.2 materials in non-DOT specification cylinders.
11947-M | RSPA-97-2901 | Patts Fabrication and Services, Odessa, TX | 49 CFR 178.253 | To modify the exemption to authorize the transportation of a Class 8 material in non-DOT specification containers.
12122-M | RSPA-98-4313 | Atlantic Research Corp. (Auto. Products Group), Knoxville, TN | 49 CFR 173.301(h); 173.302; 173.306(d)(3) | To modify the exemption to authorize passenger-carrying aircraft as an additional mode of transportation for Division 2.1, 2.2 and Class 9 materials in non-DOT specification cylinders.
13282-M | RSPA-03-16054 | ConocoPhillips Alaska, Inc., Anchorage, AK | 49 CFR 173.35; 173.242(c) & (d); 180.352 | To reissue the exemption originally issued on an emergency basis for the transportation of a Class 8 material in a DOT Specification 1A1 steel drum which exceeds the quantity limitation when shipped by air.
12468-M | RSPA-00-7421 | Connecticut Yankee Atomic Power Company, East Hampton, CT | 49 CFR 173.427(b) or (c); 173.427(a)(1); 173.403 | To modify the exemption to authorize a change to the configuration, project management, transport-related responsibilities and shipment date of the reactor pressure vessel containing a Class 7 material within a Reactor Vessel Transport System.
10323-M |  | Air Products & Chemicals, Inc., Allentown, PA | 49 CFR 173.119; 173.34; 173.245; 173.302; 173.304; 173.328; 173.346 | To modify the exemption to update testing requirements of the non-DOT specification full-open head salvage cylinders and add a Division 2.2. material.
10504-M |  | Air Products & Chemicals, Inc., Allentown, PA | 49 CFR 173.34; 173.302; 173.119; 173.328; 173.346; 173.304 | To modify the exemption to authorize a design change of the non-DOT specification full removable head salvage cylinder, add a Class 8 material and add cargo vessel as an additional mode of transportation.
11598-M |  | Metalcraft, Inc., Baltimore, MD | 49 CFR 173.34(d); 175.3 | To modify the exemption to authorize the use of an additional DOT Specification cylinder equipped with an alternative pressure relief device system for transporting certain Division 2.2 materials.
12698-M | RSPA-01-9652 | Precision Technik, Inc., Atlanta, GA | 49 CFR 173.34(d)(e); 173.115(a)(b); 173.304(a) | To modify the exemption to authorize design changes of the non-DOT specification full opening head salvage cylinders for overpacking a damaged or leaking cylinder containing various hazardous materials.
13169-M | RSPA-02-13894 | ConocoPhillips Alaska, Inc., Anchorage, AK | 49 CFR 172.101(9B) | To reissue the exemption originally issued on an emergency basis for the transportation of certain Class 3 materials in DOT Specification UN31A intermediate bulk containers which exceed quantity limitations when shipped by air.
13179-M | RSPA-02-14020 | Onyx Environmental Services, L.L.C., Flanders, NJ | 49 CFR 173.21; 173.308 | To modify the exemption to authorize cargo vessel as an additional mode of transportation for transporting Division 2.1 materials which has been removed from their inner packaging and are being sent for disposal.
7073-M |  | Ethyl Corporation, Richmond, VA | 49 CFR 173.242(c); 173.243(c); 173.244(c); 174.63(c)(1) | To modify the exemption to authorize an ultrasonic thickness test/visual inspection in place of the periodic internal inspection of the non-DOT specification portable tanks.
8650-M |  | Ethyl Corporation, Richmond, VA | 49 CFR 173.354; 174.63(b) | To modify the exemption to authorize an ultrasonic thickness test/visual inspection in place of the periodic internal inspection of the non-DOT specification portable tanks.
9149-M |  | Ethyl Corporation, Richmond, VA | 49 CFR 173.354; 178.245; 174.63(b) | To modify the exemption to authorize an ultrasonic thickness test/visual inspection in place of the periodic internal inspection of the non-DOT specification portable tanks.
9548-M |  | Ethyl Corporation, Richmond, VA | 49 CFR 173.254; 178.245 | To modify the exemption to authorize an ultrasonic thickness test/visual inspection in place of the periodic internal inspection of the non-DOT specification portable tanks.
10798-M |  | Albemarle Corporation, Baton Rouge, LA | 49 CFR 174.67(i), (j) | To modify the exemption to authorize the transportation of an additional Class 3 material in DOT Specification tank cars allowed to remain standing with unloading connections attached.
11993-M | RSPA-97-3100 | Key Safety Systems, Inc., Lakeland, FL | 49 CFR 173.301(h); 173.302; 173.306(d)(3) | To modify the exemption to authorize additional marking, welding and brazing requirements of the non-DOT specification cylinders for use as components of auto vehicle safety systems and an increased service pressure from 6,000 psig to 9,000 psig.
12706-M | RSPA-01-9731 | Raufoss Composites AS, Raufoss, NO | 49 CFR 173.34; 173.201; 173.301; 173.304; 178.35; 178.50 | To modify the exemption to authorize the use of tapered threads and update design sizes, drawings, cycle testing of the non-DOT specification fully-wrapped fiberglass composite cylinders with thermoplastic liners.
11215-M |  | Orbital Sciences Corporation, Majave, CA | 49 CFR Part 172, Subparts C, D; 172.101, Special Provision 109 | To modify the exemption to authorize an alternate takeoff/landing site of the L-1011/Pegasus fuel rocket.
11818-M |  | Raytheon Corporation, El Segundo, CA | 49 CFR 173.34(d) | To modify the exemption to authorize alternative containers for the packaging and transport of heat pipes into larger assemblies in connection with a flight project spacecraft.
13318-M | RSPA-03-16446 | Western Industries, Chilton, WI | 49 CFR 173.301; 177.840 | To reissue the exemption originally issued on an emergency basis for the use of a DOT Specification cylinder packaged in an alternative method transporting certain Division 2.1 materials.
7774-M |  | Pipe Recovery Systems, Inc., Houston, TX | 49 CFR 173.228; 175.3; Part 107, Subpart B, Appendix B, Paragraph 1 | To modify the exemption to authorize the maximum filling density be such that the liquid content must not completely fill the non-DOT specification cylinder at 54 degrees C.
8215-M |  | Olin Corporation, Brass and Winchester, Inc., East Alton, IL | 49 CFR Part 172, Subpart E; 172.320; 173.62(c); 173.230 | To modify the exemption to authorize the addition of a Division 1.1D material and for Division 1.1A and 1.1D materials to be transported in a newly designed motor vehicle (trailer).
12782-M | RSPA-01-10318 | Air Liquide America L.P., Houston, TX | 49 CFR 173.301(g)(1) | To modify the exemption to authorize the transportation of certain Division 2.2 and 2.3 materials in DOT Specification cylinders equipped with plastic valve protection caps.
13335-M | RSPA-03-16578 | D&D Proves It Inc., Salina, KS | 49 CFR | To reissue the exemption originally issued on an emergency basis for the transportation of liquefied petroleum gas residue vapors in non-DOT specification packaging.
13135-M |  | Space Systems/Loral, Palo Alto, CA | 49 CFR 173.302 | To modify the exemption to authorize a higher pressure of 2000 psig for the pressurized, on-board gas tank of a spacecraft.
7954-M |  | Air Products & Chemicals, Inc., Allentown, PA | 49 CFR 173.301(d)(2); 173.302(a)(3) | To modify the exemption to authorize an update of the pressure relief device, manifolding and pressure requirements for the transportation of Division 2.2 and 2.3 materials in DOT Specification cylinders.
12779-M |  | Matheson Tri-Gas, Inc., Parsippany, NJ | 49 CFR 173.318 | To modify the exemption to waive the rail impact test for the portable tanks authorized in the exemption.
10798-M |  | Albemarle Corporation, Baton Rouge, FL | 49 CFR 174.67(i), (j) | To modify the exemption to authorize the transportation of Division 5.1 and additional Class 8 and Division 6.1 materials in DOT Specifications tank cars.
12124-M |  | Albemarle Corporation, Baton Rouge, FL | 49 CFR 173.242; 178.245-1(c); 178.245-1(d)(4) | To modify the exemption to authorize the transportation of a non-DOT specification portable tank comparable to a DOT specification 51 portable tank, equipped with bottom outlets and no internal shutoff valve for use in the transportation of various 4.2 and 4.3 materials.
6530-M |  | Air Products & Chemicals, Inc., Allentown, PA | 49 CFR 173.302(c) | To modify the exemption to authorize the transportation of a Division 2.2 material in a DOT Specification 3A, 3AA, 3AX, or 3AAX steel cylinder.
7946-M |  | Imaging & Sensing Technology Corporation, Horseheads, NY | 49 CFR 173.306(6)(4); 175.3; 173.302 | To modify the exemption to authorize a volume increase beyond 45 cubic inches with a corresponding decrease in pressure (charge) of the non-DOT specification, non-refillable packaging described as a radiation detector assembly.
8228-M |  | U.S. Department of Justice (FBI), Quantico, VA | 49 CFR 173.56(b) | To modify the exemption to authorize the transportation of small quantities of unapproved explosive substances or articles to local government laboratories.
11054-M |  | Welker Engineering Company, Sugar Land, TX | 49 CFR 178.36 Subpart C | To modify the exemption to increase the rated working pressure from 1800psi to 2160psi and the hydrostatic test pressure to 3600psi for the CP-5 non-DOT specification cylinder.
11329-M |  | DEGESCH AMERICA, INC., Weyers Cave, VA | 49 CFR 172.500; 172.504; 172.506 | To modify the exemption to authorize two additional outer packagings for the transportation of Division 4.3 and 6.1 materials.
11624-M |  | Envirotech Systems, Inc., Lynnwood, WA | 49 CFR 173.173(b)(2) | To modify the exemption to authorize the transportation of waste materials from conditionally exempt small quantity generators and categorically exempt household hazardous waste generators that do not meet the definition of “hazardous waste.”
12613-M | RSPA-01-8702 | NOVA Chemicals Corporation, Red Deer, AB | 49 CFR 172.203(a); 179.13; 173.31(c)(1) | To modify the exemption to authorize the transportation of an additional Class 3 material in a DOT Specification 112J340W tank car.
12988-M | RSPA-02-12215 | Air Products & Chemicals, Inc., Allentown, PA | 49 CFR 173.304 | To modify the exemption to authorize a design change of the non-DOT specification cylinder.
13207-M | RSPA-03-15068 | BEI Hawaii, Honolulu, HI | 49 CFR 173.32(f)(5) | To modify the exemption to authorize the use of two additional IM 101 tanks for the transportation of a Class 8 material.
13246-M | RSPA-03-15625 | McLane Company, Inc., Temple, TX | 49 CFR 173.308(b); 172.102 N10; 173.22; 178.3; 178.503; 178.517; 178.601 | To modify the exemption to authorize the use of additional plastic outer packagings for the transportation of a Division 2.1 material.
8495-M |  | Kidde Aerospace, Wilson, SC | 49 CFR 173.304(a)(1); 178.47; 175.3 | To modify the exemption to clarify and authorize the use of the service pressure to determine the maximum allowable sidewall stress for the non-DOT specification cylinders.
9894-M |  | Luxfer Gas Cylinders, Riverside, CA | 49 CFR 173.302(a)(1); 175.3 | To modify the exemption to authorize the transportation of additional Division 2.2 materials in non-DOT specification fiber reinforced plastic hoop wrapped cylinders.
11043-M |  | Onyx Environmental Services, L.L.C., Ledgewood, NJ | 49 CFR 177.848(D) | To modify the exemption to authorize the transportation of Division 2.1 materials on the same transport vehicle with Class 3, 4, 5, and 8 materials.
11440-M |  | PPG Industries, Inc., Pittsburgh, PA | 49 CFR 173.227(c) | To modify the exemption to authorize the use of wooden pallets for the transportation of Division 6.1 materials in polyethylene drums or composite packaging.
12122-M | RSPA-98-4313 | ARC Automotive, Inc., Knoxville, TN | 49 CFR 173.301(h); 173.302; 173.306(d)(3) | To modify the exemption to authorize an increase of the maximum service pressure to 8,000 psig at 70 degrees F for the non-DOT specification pressure vessels for use as components of automobile vehicle safety systems.
12844-M | RSPA-01-10753 | Delphi Automotive Systems, Vandalia, OH | 49 CFR 173.301(h); 173.302(a); 175.3 | To modify the exemption to authorize an increase of maximum service pressure from 5,000 to 6,000 psig for the non-DOT specification pressure vessels used as components of automobile vehicle safety systems.
2899-M | RSPA-02-11387 | Pencor Reservoir Fluid Specialists, Broussard, LA | 49 CFR 173.201(c); 173.202(c); 173.203(c); 173.302(a); 173.304 (a) and (b); 175.3; 173.34(d) | To modify the exemption to authorize the use of an optional pressure compensating end cap closure for the non-DOT specification oil well sampling cylinders.
3221-M | RSPA-03-14967 | Toxco, Inc., Oak Ridge, TN | 49 CFR 173.211; 173.244 | To modify the exemption to authorize bulk containers to be shipped in sealed freight containers and increase the number of authorized non-bulk containers to 83 for the transportation of Division 4.3 materials.
3305-M | RSPA-03-16420 | Matheson Tri-Gas, East Rutherford, NJ | 49 CFR 171.14 | To modify the exemption to authorize the one-way transportation, for cleaning and final disposition, of older DOT Specification 5A drums containing a Division 4.3 material.
3323-M | RSPA-03-16488 | Integrated Ocean Drilling Program/Texas A&M University (Former Grantee: Ocean Drilling Program/Texas A&M University), College Station, TX | 49 CFR 173.301 | Emergency request to authorize the transportation of a Division 2.1 material in non-DOT specification cylinders.
22135-M | RSPA-98-4418 | Daicel Safety Systems, Inc., Washington, DC | 49 CFR 173.301(h); 173.302; 173.306(d)(3) | To modify the exemption to authorize an increase in the maximum allowable service pressure for the non-DOT specification pressure vessels from 4560 PSIG to 8990 PSIG.
8178-M |  | National Aeronautics and Space Administration, Houston, TX | 49 CFR 173.302(a); 173.301(f); 175.3 | To modify the exemption to authorize the use of alternative CRES 301 stainless steel cylinders and extending the service life of the steel cylinders to 32 years from date of manufacture for the transportation of Division 2.2 materials.
11494-M |  | ARC Automotive, Inc. (formerly Atlantic Research Corporation), Knoxville, TN | 49 CFR 173.301(h); 173.302; 173.306(d)(3) | To modify the exemption to authorize an increase in maximum service pressure from 4,000 psig to 8,000 psig of the non-DOT specification cylinders.
10751-M |  | Dyno Nobel, Inc., Salt Lake City, UT | 49 CFR 177.848; 177.823; 177.835(c)(3) | To modify the exemption to authorize an increased capacity of the aluminum chassis-mounted saddle fuel tank from 150 to 300 gallons.
12065-M | RSPA-98-3831 | International Flavors and Fragrances, Inc., Shrewsbury, NJ | 49 CFR 173.120(c)(ii) | To modify the exemption to authorize the transportation of additional Class 3 materials with flash points determined by the Grabner MiniFlash Flashpoint Analyzer.
12561-M | RSPA-00-8305 | Rhodia Inc., Cranbury, NJ | 49 CFR 172.203(a); 173.24b; 179.13 | To modify the exemption to authorize the use of 100 additional DOT Specification tank cars having a maximum gross weight on rail of 286,000 pounds for the transportation of Class 8 materials.
13310-M |  | Amvac Chemical Corporation, Los Angeles, CA | 49 CFR 178.3; 178.503 | To reissue the exemption originally issued on an emergency basis for the transportation of certain UN standard bags that were incorrectly printed with a specification marking that does not include the “UN” symbol.
13350-M |  | The Boeing Company, Cape Canaveral, FL | 49 CFR 173.201 | To reissue the exemption originally issued on an emergency basis for the transportation of four Space Shuttle Orbiter Auxiliary Power Units containing the residue of a Class 8 material.
13355-M | RSPA-04-17039 | C L Smith Co., Saint Louis, MO | 49 CFR 173.13(a); 173.13(b); 173.13(c)(1)(ii); 173.13(c)(1)(iv); 173.13(d) | To reissue the exemption originally issued on an emergency basis for the use of specially designed combination packagings for the transportation of various hazardous materials without hazard labels or placards.
11537-M |  | Hawkins, Inc., Minneapolis, MN | 49 CFR 177.834(h) | To modify the exemption to authorize the transportation of a Division 5.1 material in UN31H2 or UN31HA1 Intermediate Bulk Containers.
7951-M |  | Alamance Foods, Inc., Burlington, NC | 49 CFR 173.306(b)(1); 178.33; 175.3 | To modify the exemption to authorize non-refillable metal containers to be equipped with an alternative dome expansion device for the transportation of aerosols containing Division 2.2 materials.
9874-M |  | Dow Chemical Company, Midland, MI | 49 CFR 172.203(a); 172.302(c); 177.834(i)(3) | To modify the exemption to authorize the use of video cameras or instrumentation as an alternative to the tank truck loading requirement for the transportation of various hazardous materials.
11489-M |  | TRW Automotive, Washington, MI | 49 CFR 172.320; 173.56(b) | To modify the exemption to authorize the transportation of a Class 9 material without marking the exemption number on pressure vessels used in the air bag module assembly.
11592-M |  | Amtrol, Inc., West Warwick, RI | 49 CFR 173.306(g) | To modify the exemption to authorize adding 10% helium to the compressed air and to increase the maximum pressure to 50 psig for the non-DOT specification steel water pump system tank.
11650-M |  | Autoliv ASP, Inc., Ogden UT | 49 CFR 173.301; 173.302; 178.65-9 | To modify the exemption to eliminate the ladle carbon requirement and allow the use of steel cylinders when the check analysis maximum carbon content does not exceed 0.20% for the non-DOT specification pressure vessels.
8627-M |  | Naldo Energy Services, L.P., Naperville, IL | 49 CFR 173.201; 173.202; 173.203; 173.241, 173.243 | To modify the exemption to authorize the transportation of an additional class 3 material in non-DOT specification portable tanks.
11691-M |  | PepsiCo International, Valhalla, NY | 49 CFR 176.83(d); 176.331; 176.800(a) | To modify the exemption to authorize relief from the marking requirements on packaging inside ocean bulk cargo containers transporting various Class 3 and Class 8 materials.
11379-M |  | TRW Automotive, Washington, MI | 49 CFR 173.301(h), 173.302 | To modify the exemption to authorize a maximum carbon percent of 0.20 for both check and ladle analysis and relief from the marking requirements on packaging and shipping papers for the non-DOT specification pressure vessels.
13402-M |  | Solvay Chemicals, Inc., St. Louis, MO | 49 CFR 173.24b(a)(1)(i) | To reissue the exemption originally issued on an emergency basis for the transportation of a Division 2.2 material in DOT Specification 110A1000W multi-unit tank car tanks with a higher density than currently authorized.
7765-M |  | Carleton Technologies Inc., Orchard Park, NY | 49 CFR 173.302(a)(4); 175.3 | To modify the exemption to authorize the use of an additional non-DOT specification pressure vessel reservoir assembly for the transportation of Division 2.2 materials.
10981-M |  | Austin Powder Company, Cleveland, OH | 49 CFR 172.101; 173.62; 176.83 | To modify the exemption to authorize an additional loading operating location for the transportation of Division 1.5D materials in DOT Specification IM 102 portable tanks.
11537-M |  | American Development Corporation, Vanceboro, NC | 49 CFR 177.834(h) | To modify the exemption to authorize additional Class 8 materials in UN Standard UN31H2 or UN31HA1 Intermediate Bulk Containers (IBCs) to be unloaded while on a motor vehicle.
13441-M | RSPA-04-17052 | Eastman Kodak Company, Rochester, NY | 49 CFR 173.6(a)(1)(ii), 173.6(d) | To modify the exemption to increase the weekly/yearly number of bulk shipments transporting Class 8 & 9, Division 2.1 & 2.2 materials and increase the maximum bulk roll-off packaging weight to 39,000 pounds.
11667-M |  | Weldship Corporation, Bethlehem, PA | 49 CFR 173.302a(b); 180.205 & 180.209 | To modify the exemption to authorize rail freight as an additional mode of transportation for transporting Division 2.1, 2.2 and 2.3 materials in DOT Specification 3AA, 3AAX and ET cylinders.
12184-M | RSPA-00-8318 | Weldship Corporation, Bethlehem, PA | 49 CFR 172.302a(b); 180.205 & 180.209 | To modify the exemption to authorize rail freight as an additional mode of transportation for transporting Division 2.1, 2.2 and 2.3 materials in DOT Specification 3A and 3AA cylinders.
12574-M | RSPA-00-8318 | Weldship Corporation, Bethlehem, PA | 49 CFR 172.302a(b); 180.205 & 180.209 | To modify the exemption to authorize rail freight as an additional mode of transportation for transporting Division 2.2 materials in manifolded and framed non-DOT specification seamless steel cylinders.
13057-M | RSPA-02-12819 | MINTEQ International, Inc., Easton, PA | 49 CFR 172 Subparts D, E and F; 173.24(c) Subparts E and F of Part 173 | To modify the exemption to authorize the use of wooden spools to coil and ship core-filled steel tubing, with an inner core containing various hazardous materials, that is securely affixed on a wooden pallet.
13083-M | RSPA-02-12994 | Rockwood Pigments NA, Inc., St. Louis, MO | 49 CFR 172,101 (SP 1B6 or IP2) | To reissue the exemption originally issued on an emergency basis for the transportation of a Division 4.2 material in UN13H2 or UN13H3 Intermediate Bulk Containers (IBCs).
13027-M | RSPA-02-12451 | Hernco Fabrication & Services, Midland, TX | 49 CFR 173.241; 173.242 | To modify the exemption to authorize the filling overflow line shutoff valve on top of manifolded non-DOT specification tanks to remain open during transportation.
13321-M | RSPA-03-16598 | Quest Diagnostics, Inc., Collegeville, PA | 49 CFR 173.28(b)(3) | To modify the exemption to authorize the transportation of Diagnostic Specimens in specially designed UN5L3 reusable textile bags.
13568-M | RSPA-04-17985 | Spectrum Astro, Inc., Gilbert, AZ | 49 CFR 173.301(a)(1) & 173.301(f) | To reissue the exemption originally issued on an emergency basis for the transportation in commerce of non-DOT propellant tanks fully pressurized for use in a space vehicle flow system.
8627-M |  | Nalco Energy Services, L.P., Naperville, IL | 49 CFR 173.201; 173.202; 173.203 | To modify the exemption to authorize the transportation of additional Class 3 and Class 8 materials in non-DOT specification portable tanks manifolded together within a frame and securely mounted on a truck chassis.
8939-M |  | Hollice Clark Truck Fabrication, Inc., Odessa, TX | 49 CFR 173.201; 173.202; 173.203 | To modify the exemption to authorize the transportation of additional Class 3 materials in non-DOT specification portable tanks manifolded together within a frame and securely mounted on a truck chassis.
9462-M |  | Aztec Metal Fabrication, Odessa, TX | 49 CFR 173.201; 173.202; 173.203 | To modify the exemption to authorize the transportation of additional Class 3 materials in non-DOT specification portable tanks manifolded together within a frame and securely mounted on a truck chassis.
12800-M | RSPA-0110317 | U.S. Department of Energy, Germantown, MD | 49 CFR 173.411(b)(2) | To modify the exemption to provide relief from certain marking requirements to be used on rail cars transporting certain Class 7 materials.
13282-M | RSPA-03-16054 | ConocoPhillips Alaska, Inc., Anchorage, AK | 49 CFR 173.35; 173.242(c)&(d) | To modify the exemption to authorize the use of 55-gallon UN Standard 1H1 plastic drums for the transportation of Class 8 materials which exceed the quantity limitation when shipped by cargo aircraft only.
13552-M | RSPA-04-17541 | Astaris LLC, Lawrence, KS | 49 CFR 173.188 | To reissue the exemption originally issued on an emergency basis for the transportation of a Division 4.2 material, under water, in alternative packaging.
13556-M | RSPA-04-17727 | Stericycle, Inc. dba Bio Systems, Inc., Lake Forest, IL | 49 CFR 172.302(c); 173.197(d) | To reissue the exemption originally issued on an emergency basis for the transportation of Division 6.2 materials in non-DOT specification rigid plastic sharps containers fitted into a custom designed wheeled rack.
13596-M |  | Honeywell International Inc., Minneapolis, MN | 49 CFR 173.301(f)(5) | To reissue the exemption originally issued on an emergency basis for the transportation of DOT Specification 3E cylinders that are over 12 inches in length without pressure relief devices.
9275-M |  | Alcoa Inc., Pittsburgh, PA | 49 CFR Parts 100-180 | To modify the exemption to authorize revising the proper shipping description to allow transportation of medical screening solutions containing ethyl alcohol liquids.
11670-M |  | Oilphase Schlumberger, Dyce, Aberdeen, Scotland | 49 CFR 178.36 | To modify the exemption to authorize the use of a newly designed non-DOT specification oil well sampling cylinder for the transportation of Division 2.1 materials.
12744-M | RSPA-01-10126 | Alcoa Inc., Pittsburgh, PA | 49 CFR 171-180 | To modify the exemption to authorize a Division 4.3, PGI material be allowed to be transported as a “material of trade” item.
13321-M | RSPA-03-16598 | Quest Diagnostics, Inc., Collegeville, PA | 49 CFR 173.28(b)(3) | To modify the exemption to authorize passenger-carrying aircraft as an additional mode of transportation for certain Division 6.2 materials.
13442-M |  | PRC-DeSoto International, Majave, CA | 49 CFR 173.173(b)(2) | To reissue the exemption originally issued on an emergency basis for a Class 3 material in inner plastic packagings not exceeding 5 L capacity in addition to the glass and metal packagings.
13796-M | RSPA-04-18891 | Rhodia Inc., Cranbury, NJ | 49 CFR 173.188 | To reissue the exemption originally issued on an emergency basis for the transportation of a Division 4.2 material while under water in alternative packaging.
11761-M |  | UOP LLC, Des Plaines, IL | 49 CFR 173.31(d)(1)(vi); 172.302(c) | To modify the exemption to authorize the transportation of the residue of an additional Class 8 material in DOT Specification and AAR specification tank cars.
11989-M | RSPA-97-3170 | U.S. Department of Defense, Fort Eustis, VA | 49 CFR 172.504; 176.83(a), (d), (f) | To modify the exemption to authorize the transportation of an additional Division 2.2 material; additional guided bomb model number component items with specific loading, blocking, bracing requirements aboard vessels.
12706-M | RSPA-01-9731 | Raufoss Composites AS, Raufoss, NO | 49 CFR 173.201; 173.301; 173.304; 178.35; 178.50 | To modify the exemption to update the bonfire test criteria requirements for the non-DOT specification fully-wrapped fiberglass composite cylinders.
13401-M |  | Northern States Power Company, Welch, MN | 49 CFR 173.403; 173.427 | To reissue the exemption originally issued on an emergency basis to authorize the transportation in commerce of two steam generators containing class 7 radioactive material.
10798-M |  | Olin Corporation, Cleveland, TN | 49 CFR 174.67(i), (j) | To modify the exemption to authorize the transportation of an additional Class 8 material in DOT Specification tank cars.
10985-M |  | Georgia-Pacific Corporation, Atlanta, GA | 49 CFR 174.67(i)(j) | To modify the exemption to authorize the transportation of Class 3, Division 6.1 and additional Class 8 materials in DOT Specification tank cars.
12274-M | RSPA-99-5707 | Snow Peak USA, Inc., Clackamas, OR | 49 CFR 173.304a(d)(3)(ii) | To modify the exemption to authorize the transportation of an additional Division 2.1 material in non-DOT specification nonrefillable inside containers.
13208-M | RSPA-03-14944 | Provensis Limited, Keaton House | 49 CFR 171.11(d)(7) and (14); 171.12(b)(17); 173.302(a)(1)); Part 174; Part 177 | To modify the exemption to authorize the transportation of an additional Division 2.2 material in DOT Specification 2Q containers and relief from certain operational controls and modal requirements.
13565-M | RSPA-04-17863 | H.C. Starck, Inc., Newton, MA | 49 CFR 173.211 | To reissue the exemption originally issued on an emergency basis for the transportation of Division 4.3 material in alternative packaging (an accumulator).
13601-M | RSPA-04-18713 | DS Containers, Inc., Lemont, IL | 49 CFR 173.306(b)(1); 175.3 | To modify the exemption to authorize a pressure relief device in the bottom end of the non-DOT specification inner nonrefillable metal container with a venting pressure not below 175 psi.
12920-M | RSPA-02-11638 | Epichem, Inc., Haverhill, MA | 49 CFR 173.181(c) | To modify the exemption to authorize the transportation of an additional Division 4.2 material in combination packagings with inner containers that exceed currently authorized quantities.
13182-M | RSPA-02-14023 | Cytec Industries Inc., West Paterson, NJ | 49 CFR 173.304a(b) | To modify the exemption to authorize domestic distribution of DOT Specification cylinders containing a certain Division 2.3 material filled to liquid full at 130 degrees F.
11654-M |  | Celanese Ltd. (formerly Celanese Chemicals), Dallas, TX | 49 CFR 172.203(a); 173.31(c)(1); 179.13 | To modify the exemption to authorize the transportation of an additional Class 3 material in DOT Class 105S tank cars.
11769-M |  | Los Angeles Chemical Company, South Gate, CA | 49 CFR 177.834(h) | To modify the exemption to authorize the transportation of an additional Division 5.1 material in UN Intermediate Bulk Containers (IBCs) without removing the IBC from the vehicle.
13192-M | RSPA-03-14315 | Pollution Control Industries, Inc., East Chicago, IN | 49 CFR 173.12(b) | To modify the exemption to provide additional relief from the stowage and segregation requirements for all hazardous materials shipped in a lab pack.
13976-M | RSPA-04-19464 | Osmose Utilities Services, Inc., Buffalo, NY | 49 CFR 172.504(a) | To reissue the exemption originally issued on an emergency basis for the transportation of certain UN Standard combination packages which contain a Division 6.1 material in utility vehicles that are not placarded.
7041-M |  | Albermarle Corporation, Baton Rouge, LA | 49 CFR 173.244 | To modify the exemption to authorize additional proper shipping names for the Division 4.2 and 4.3 materials transported in non-DOT specification cargo tanks equipped with an agitator.
9198-M |  | U.S. Dept. of the Interior, National Business Center, Aviation Management, Boise, ID | 49 CFR Subchapter C; 175.5(a)(2) | To modify the exemption to eliminate the requirement for an extra person on board the aircraft during transport of hazardous materials and to update the DOI-USDA Handbook/Guide.
9672-M |  | Albermarle Corp., Baton Rouge, LA | 49 CFR 178.337-8(a)(3) | To modify the exemption to authorize additional proper shipping names for the Division 4.2 and 4.3 materials transported in DOT Specification cargo tanks with a filling/discharge opening without a remote self-closing internal valve.
11383-M |  | NASA, Washington, DC | 49 CFR 173.40(a) & (c); 173.158(b), (g), (h); 173.192(a); 173.336 | To modify the exemption to authorize the transportation of an additional Division 2.3 material in non-DOT specification stainless steel cylinders.
11799-M |  | Cryonix, Inc., Rockville, MD | 49 CFR 173.196 | To modify the exemption to authorize alternatives in packaging types, operating temperatures, quantity of specimens, and in transport vehicles for transporting infectious substances by private motor vehicle.
12124-M | RSPA-98-4309 | Albemarle Corporation, Baton Rouge, FL | 49 CFR 173.242; 178.245-1(c); 178.245-1(d)(4) | To modify the exemption to authorize additional proper shipping names for the Division 4.2 and 4.3 materials transported in non-DOT specification portable tanks.
13337-M | RSPA-04-16874 | Albemarle Corporation, Baton Rouge, LA | 49 CFR 172.301(c); 172.302(c); 176.83(b)&(d) | To modify the exemption to authorize additional proper shipping names for the Division 4.2 and 4.3 materials transported in certain authorized packaging without meeting “away from” segregation requirements.
13961-M | RSPA-04-19297 | 3AL Testing Corporation, Denver, CO | 49 CFR 172.203(a); 172.301(c); 180.205(f),(g); 180.209(a) | To reissue the exemption originally issued on an emergency basis for the transportation of DOT Specification 3AL cylinders containing Division 2.1, 2.2 and 2.3 materials when retested by a 100% ultrasonic examination in lieu of the internal visual and hydrostatic retest.
13997-M | RSPA-04-19643 | Maritime Helicopters, Homer, AK | 49 CFR 172.101(9b); 172.302(c) | To reissue the exemption originally issued on an emergency basis for the transportation of a Division 2.1 material in DOT Specification 51 portable tanks that exceed the quantities limitation by cargo aircraft.
14005-M | RSPA-04-19585 | Scientific Cylinder International, LLC, Castle Rock, CO | 49 CFR 172.203(a), 172.301(c), 180.205(f)(4), 180.205(g), 180.209(a) | To reissue the exemption originally issued on an emergency basis for the transportation of DOT Specification 3A, 3AA, 3BN cylinders containing Division 2.1, 2.2 and 2.3 material when retested by a 100% ultrasonic examination in lieu of the internal visual and hydrostatic retest.
14006-M | RSPA-04-19586 | Scientific Cylinder International, LLC, Castle Rock, CO | 49 CFR 172.203(a), 172.301(c), 180.205(f)(4), 180.205(g), 180.209(a) | To reissue the exemption originally issued on an emergency basis for the transportation of DOT Specification 3AL cylinders containing Division 2.1, 2.2 and 2.3 material when retested by a 100% ultrasonic examination in lieu of the internal visual and hydrostatic retest.
13998-M | RSPA-04-19651 | 3AL Testing Corp., Denver, CO | 49 CFR 172.203(a); 172.302a(b)(2),(4)(5); 180.205(f)(g); 180.209(a)(b)(1)(iv) | To reissue the exemption originally issued on an emergency basis for the transportation of DOT Specification 3A, 3AA, 3BN cylinders containing Division 2.1, 2.2 and 2.3 materials when retested by a 100% ultrasonic examination in lieu of the internal visual and hydrostatic retest.
13577-M | RSPA-04-18710 | Scott Medical Products, a division of Scott Specialty Gases, Inc., Plumstreadville, PA | 49 CFR 173.306(a)(3)(ii); 173.306(a)(3)(v) | To modify the exemption to authorize the use of an alternative valve neck closure for the non-DOT specification inside metal containers.
NEW EXEMPTION GRANTED
13161N | RSPA-02-13798 | Honeywell International Inc., Morristown, NJ | 49 CFR 172.301(a)(1); 172.301(c); 172.400; 172.504; 173.202 | To authorize the transportation in commerce of small quantity of Class 3 hazardous material in specially designed packaging to be transported as unregulated. (modes 1, 4).
13164-N | RSPA-02-13802 | United States Enrichment Corporation (USEC), Bethesda, MD | 49 CFR 173.420 | To authorize the one-time transportation in commerce of 480M type cylinders for use in transporting Class 7 hazardous materials. (modes 1, 2).
13165-N | RSPA-02-13803 | Harris Corporation, Melbourne, FL | 49 CFR 172.200 | To authorize the transportation in commerce of non-bulk hazardous materials within the same facility along public roads with alternative shipping papers. (mode 1).
13167-N |  | Eastman Kodak Company, Rochester, NY | 49 CFR 173.301(f); 173.304 | To authorize the transportation in commerce of anhydrous ammonia in a DOT-E 11725 cylinder which is removed from its original outer packaging and installed in a device as part of an environmental conditioning system. (mode 1).
13172-N | RSPA-02-14007 | Raytheon Co., Tewksbury, MA | 49 CFR 173.302(a); 175.3 | To authorize the transportation in commerce of helium, Division 2.2, in fully wrapped carbon-fiber reinforced aluminum lined non-DOT cylinders with a maximum service pressure of 3240 psi and a water capacity of 260 liters. (modes 1, 2, 3, 4, 5).
13173-N | RSPA-02-14003 | Dynetek Industries Ltd., Calgary Alberta, Canada | 49 CFR 173.302(a); 175.3 | To authorize the manufacture, mark, sale and use of DOT-CFFC specification fully wrapped carbon fiber reinforced aluminum lined cylinders mounted in protective enclosures for use in transporting Division 2.1 and 2.2 hazardous materials. (modes 1, 2, 3, 4, 5).
13178-N | RSPA-02-14019 | ConocoPhillips, Anchorage, AK | 49 CFR 172.101, Table Col. (9B) | To authorize the transportation in commerce of 350 gallon DOT Specification bulk containers for use in transporting flammable liquids, n.o.s. by cargo aircraft. (mode 4).
13179-N | RSPA-02-14020 | EnviroTech Systems Inc., Lynwood, WA | 49 CFR 173.21; 173.308 | To authorize the transportation in commerce of lighters that have been removed from their approved inner packagings, are partially used, and are being transported for disposal without further approval. (mode 4).
13180-N | RSPA-02-14021 | The Association of HazMat Shippers, Washington, DC | 49 CFR 123; 172.203(a); 172.301(c); 173.22; 173.306(a)(1); 173.306 | To authorize the transportation in commerce of aerosols with a capacity of 50 ml or less containing Division 2.2 gas and no other hazardous materials be transported without certain hazard communication requirements. (modes 1, 2, 3).
13181-N | RSPA-02-14022 | Thermo MF Physics, Colorado Springs, CO | 49 CFR 173.403; 173.424 | To authorize the transportation in commerce of a specially designed device consisting of a non-DOT specification cylinder for use in transporting sulfur hexafluoride, Division 2.2. (modes 1, 3, 4, 5).
13182-N | RSPA-02-14023 | Cytec Industries Inc., West Paterson, NJ | 49 CFR 173.304(b) | To authorize the transportation in commerce of foreign designed cylinders with relief from filling limits for use in transporting phosphine, Division 2.3 (modes 1, 3).
13186-N | RSPA-02-14014 | Quality Containment Company, Owensboro, KY | 49 CFR 173.304(a)(2); 173.301(f) | To authorize the manufacture, marking, sell and use of non-DOT specification full opening head, steel salvage cylinders for overpacking damaged or leaking chlorine cylinders. (modes 1, 3).
13190-N | RSPA-03-14316 | Air Products & Chemicals, Allentown, PA | 49 CFR 177.834(i)(3) | To authorize cargo tanks to be unloaded without meeting the attendance requirements. (mode 1).
13192-N | RSPA-03-14315 | Onyx Environmental Services, L.L.C., Flanders, NJ | 49 CFR 173.12(b) | To authorize the transportation in commerce of certain labpack quantities of hazardous materials with shrink-wrap as an overpack without required markings and labels. (modes 1, 3, 4).
13215-N |  | Cryogenic Manufacturing and Repair, Inc., Eagle Lake, TX | 49 CFR 174.85 | To authorize the manufacture, mark, sale and use of non-DOT specification insulated portable tanks for use in transporting Division 2.2 hazardous materials. (mode 2).
13199-N |  | HVAC Portable Systems, Inc., Houston, TX | 49 CFR 173.302(c); 173.306(e)(1) | To authorize the transportation in commerce of reconditioned refrigeration units containing Division 2.2 hazardous materials. (mode 1).
13200-N |  | Southern Air Inc., Columbus, OH | 49 CFR 172.101 Col. 9B; 172.204(c)(3); 173.27(b)(2)(3); 175.30(a)(1) | To authorize the transportation in commerce of Class 1 explosives which are forbidden or exceed quantities as presently authorized. (mode 4).
13201-N |  | Powsus Inc., Fort Pierce, FL | 49 CFR 173.309 | To authorize the transportation in commerce of fire extinguishers of plastic construction equipped with steel or aluminum fittings. (modes 1, 2, 3, 4, 5).
13202-N |  | CyPlus Corporation, Parsippany, NJ | 49 CFR 173.242 | To authorize the transportation in commerce of dry sodium cyanide, Division 6.1 in alternative bulk packaging inside trailers or freight containers. (modes 1, 3).
13208-N |  | Provensis Limited of South Harefield, Middlesex, UK | 49 CFR 171.11(d)(7); 171.12(b)(17); 173.306(a)(3)(v); Part 174; Part 177; 171.11(d)(14) | To authorize the transportation in commerce of aerosol containers that have not been subjected to the hot water bath test for use in transporting non-flammable compressed gas. (modes 1, 2, 3, 4).
13209-N |  | Corning, Inc., Corning, NY | 49 CFR 173.21(e); 180.205(g); 173.25(a)(1) | To authorize the transportation in commerce of sodium borophydride, Division 4.3 with various aqueous solutions in specially designed packaging. (modes 1, 4).
13211-N |  | Avecia Inc., Wilmington, DE | 49 CFR 172.101, SP N8 | To authorize the transportation in commerce of non-bulk UN standard alternative packaging for use in transporting nitroglycerin solution in alcohol. (modes 1, 3, 5).
13212-N |  | Southern California Edison, San Clemente, CA | 49 CFR 173.427; 173.465(c); 173.465(d) | To authorize the transportation in commerce of three large reactor coolant pumps containing Class 7 radioactive materials and surface contaminated objects. (mode 1).
13213-N |  | Washington State Ferries, Seattle, WA | 49 CFR 172.101(10a) | To authorize the transportation in commerce of limited quantities of Class 3, Class 9 and Division 2.1 hazardous materials being stowed on and below deck on passenger ferry vessels transporting motor vehicles, such as recreational vehicles, with attached cylinders of liquefied petroleum gas. (mode 5).
13219-N | RSPA-03-14969 | Solvay Interox, Inc., Houston, TX | 49 CFR 172.302(c); 173.31(d)(1)(vi) | To authorize the transportation in commerce of DOT specification tank cars containing Division 5.1 and 5.2 hazardous materials without removing the frangible disc. (mode 2).
13220-N | RSPA-03-14968 | Advanced Technology Materials, Inc. (ATMI), Danbury, CT | 49 CFR 173.301; 173.302; 173.304; 173.315 | To authorize the transportation in commerce of non-DOT specification cylinders containing certain compressed gases absorbed onto a microporous substance and transported at sub-atmospheric pressure. (mode 1).
13221-N | RSPA-03-14967 | ToxCo, Inc., Oak Ridge, TN | 49 CFR 173.211; 173.244 | To authorize the one-time, one-way transportation in commerce of solidified sodium metal in certain non-DOT specification non-bulk and bulk packages. (mode 1).
13222-N | RSPA-03-14971 | Unilever Bestfoods, Englewood Cliffs, NJ | 49 CFR 173.306(a); 173.306(a)(3)(v) | To authorize the manufacture, mark, sale and use of a non-DOT specification, non-refillable plastic aerosol container filled with compressed gas and a non-hazardous material. (modes 1, 2, 3, 4).
13229-N |  | Matheson Tri-Gas, East Rutherford, NJ | 49 CFR 173.304(b) | To authorize the transportation in commerce of phosphine, Division 2.3, in DOT Specification seamless cylinders with a service pressure of 4000 psi and a filling density not to exceed 0.45. (modes 1, 3).
13232-N |  | CP Industries, McKeesport, PA | 49 CFR 178.37(k)(2)(i); 178.37(l); 178.45(j)(1); 178.45(k)(2) | To authorize the transportation in commerce of DOT Specification cylinders which have received an alternative tensile test for use transporting compressed gases. (mode 1).
13233-N |  | Fuji Hunt Photographic Chemicals, Inc., Rolling Meadows, IL | 49 CFR 173.24a(c) | To authorize the transportation in commerce of corrosive materials in combination packagings with other hazardous materials without being further packed in another inner receptacle. (modes 1, 2, 3).
13235-N |  | Airgas, Inc., Cheyenne, WY | 49 CFR 172.203(a); 177.834(h) | To authorize filling and discharging of a DOT Specification 4L cylinder with carbon dioxide, refrigerated liquid without removal from the vehicle. (mode 1).
13237-N |  | Prazair, Inc., Danbury, CT | 49 CFR 173.302; 173.304; 173.304a; 173.323; 173.338 | To authorize the transportation in commerce of non-DOT specification cylinders that are designed to a foreign specification for use in transporting various hazardous materials. (modes 1, 3).
13244-N |  | Kihei Industries, Houston, TX | 49 CFR 173.302; 173.306(b)(4); 175.3 | To authorize the manufacture, mark, sale and use of non-DOT specification containers described as hermetically-sealed election tubes for use in transporting Division 2.2 hazardous materials. (modes 1, 2, 3, 4, 5).
13245-N |  | Piper Impact, New Albany, MS | 49 CFR 173.302(a)(1); 175.3 | To authorize the manufacture, mark, sale and use of non-DOT specification cylinders similar to DOT Specificaiton 39 cylinders for use in transporting Division 2.2 hazardous materials. (modes 1, 2, 3, 4, 5).
13246-N |  | McLane Company, Inc., Temple, TX | 49 CFR 173.308(b); 172.102 N10; 173.22; 178.3; 178.503; 178.517; 178.601 | To authorize the transportation in commerce of cigarette lighters, for which approval has been obtained by the lighter manufactures under 49 CFR 173.21(i), in reusable plastic totes. (mode 1).
13249-N |  | Creative Engineers, Inc., Gisonia, PA | 49 CFR 173.211; 173.34(e) | To authorize the transportation in commerce of certain Division 4.3 hazardous materials in DOT-4BW240 cylinders. (modes 1, 2, 3, 4).
13251-N |  | Department of Defense, Fort Eustis, VA | 49 CFR 172.301(c); 173.302(a) | To authorize the one-time roundtrip transportation in commerce of six non-DOT specification cylinders containing a Division 2.2 compressed gas. (modes 1, 3).
13252-N |  | Department of Defense, Fort Eustis, VA | 49 CFR 172, Subparts D&E; 173.25(a)(2); 172.400(a)(5) | To authorize the one-time transportation in commerce of specially designed non-bulk containers containing mercury, Class 8 overpacked in wooden box pallets. (mode 1).
13257-N |  | Pharmacia Corp., Kalamazoo, MI | 49 CFR Subpart C of Part 172; 172.301(a)(b)&(c); 173.196 | To authorize the transportation in commerce of certain infectious substances in specially designed packaging. (mode 1).
13259-N |  | Pressure Vessel Technologies, Inc., Warren, WI | 49 CFR 173.302; 173.304a(a) | To authorize the manufacture, marking, sale and use of non-DOT specificaiton cylinders conforming with all regulations applicable to a DOT Specification 3E cylinder for use in transporting non-liquefied gases classed in Division 2.1, 2.2 and 2.3 (modes 1, 2).
13262-N |  | Symmetricom, Inc., Beverly, MA | 49 CFR 172.400(a); 172.500, 173.211(a); 175.3 | To authorize the transportation in commerce of certain cesium devices consisting of an inner cylinder enclosed within an outer stainless steel, welded, hermetically sealed cylinder containing Division 4.3 hazardous materials. (modes 1, 2, 3, 4, 5).
13263-N |  | Air Products & Chemicals, Inc., Allentown, PA | 49 CFR 173.301(f); 173.192, 173.201; 173.202; 173.203; 173.226; 173.227; 173.302(a); 173.227; 173.302(a); 173.304a(a)(2) | To authorize the manufacture, mark, sale and use of non-DOT specification, full removable head salvage cylinders for use in overpacking damaged or leaking packages of pressurized and non-pressurized hazardous materials. (mode 1).
13264-N |  | Trinity Manufacturing, Inc., Hamlet, NC | 49 CFR 172.101, Col 7, SP B14; 173.244 | To authorize the transportation in commerce of non-DOT specification portable tank mounted in an ISO frame that complies with the IMO Type 5 specification and built to ASME Code for use in transporting chloropicrin, Division 6.1. (modes 1, 3).
13268-N |  | Ciba Specialty Chemicals, McIntosh, AL | 49 CFR 177.834(i)(3) | To authorize an alternative attendance requirement of cargo tanks during loading and unloading of various classes of hazardous materials. (mode 1).
13269-N |  | Brenntag Mid-South, Inc., Henderson, KY | 49 CFR 173.301(f) | To authorize the one-way transportation in commerce of anhydrous amonia in DOT specification cylinders equipped with emergency kits to prevent leakage during transportation. (mode 1).
13274-N |  | Department of Defense (MTMC), Fort Eustis, VA | 49 CFR 180.509 | To authorize the filling of tank cars that are past their test dates. (mode 1).
13275-N |  | Enviro-Safe Refrigerants, Inc., Pekin, IL | 49 CFR 173.304a(d)(3)(ii); 178.33a-8 | To authorize the transportation of certain DOT Specification 2Q containers containing liquefied petroleum gas with a charging presure of 230 psig at 130 degrees F. (modes 1, 2, 3, 4).
13280-N |  | Texaco Ovonic Hydrogen Systems, L.L.C., Rochester Hills, MI | 49 CFR 173.301(a)(1), (d) and (f) | To authorize the manufacture, mark, sale and use of a specially designed storage device consisting of a non-DOT specification cylinder similar to a DOT 3AL cylinder for use in transporting hydrogen, Division 2.1. (modes 1, 2, 3, 4).
13282-N |  | ConocoPhillips Alaska Inc., Anchorage, AL | 49 CFR 173.35; 173.242(c) & (d); 180.352 | To authorize the transportation in commerce of corrosive, n.o.s., Class 8 hazardous material in DOT specification container that exceed the quantity limitations for air cargo transportation. (mode 4).
13285-N |  | EP Container Corp., Cerritos, CA | 49 CFR 173.12(b)(2)(i) | To authorize the manufacture, marking, sale and use of a UN4G fiberboard box as the outer packaging for lab pack applications. (modes 1, 2, 3).
13286-N |  | Nestle Ice Cream Company, LLC, Oakland, CA | 49 CFR 173.306(a)(3)(v) | To authorize the transportation in commerce of aerosol container that have received alternative testing method for use in transporting limited quantities of compressed gases. (modes 1, 2, 3).
13289-N |  | TITEQ Corporation, Palmdale, CA | 49 CFR 173.302(a)(3); 175.3 178.65 | To authorize the manufacturer, marking, sale and use of a limited life, non-refillable non-DOT specification steel cylinder, similar to DOT Specification 39 for use in transporting certain Division 2.2 hazardous materials. (modes 1, 2, 4).
13290-N |  | Teris, L.L.C., Camarillo, CA | 49 CFR 173.188 | To authorize the transportation in commerce of waste white phosphorus, Division 4.2, in 30 gallon 1H2 plastic drums further packaged in 1A2 steel 55 gallon drums banded together and palletized. (mode 1).
13291-N |  | Willy-EZ Products & Innovations Inc., Huntington Beach, CA | 49 CFR 173.302; 175.10 | To authorize the transportation in commerce of a specially designed life-saving device equipped with small carbon dioxide cylinder with one spare cartridge containing helium for carriage by a passenger or crew member in checked or carry-on baggage (mode 5).
13292-N |  | Seaquist Perfect Dispensing, Cary, IL | 49 CFR 173.306(h) | To authorize the manufacture, mark, sale and use of plastic container of not more than 20 fluid ounces pressurized with a non-flammable non-toxic gas to a maximum pressure of 150 psi for transportation of consumer commodities. (modes 1, 2).
13293-N |  | Penox Technologies, LLC, Pitts, PA | 49 CFR 173.316 | To authorize the transportation in commerce of a non-DOT specification cylinder equipped with an alternative heat transfer design pressure for use in transporting oxygen, refrigerated liquid. Division 2.2. (mode 1).
13294-N |  | BOC Edwards, San Marcos, CA | 49 CFR 173.211; 173.242 | To authorize the transportation in commerce of electrolyte cells to be shipped in bulk in alternative packaging. (mode 1).
13297-N |  | WMG Inc., Peekskill, NY | 49 CFR 173.403; 173.427(a), (b) & (c); 173.465(c) & (d) | To authorize the manufacture, marking, sale and use of a specially designed device containing Class 7 radioactive materials. (modes 1, 3).
13301-N |  | United Technologies Corporation, West Palm Beach, FL | 49 CFR 172 Subparts C, D, E, and F | To authorize the transportation in commerce of certain hazardous materials for a distance of approximately 400 feet without proper hazard communications. (mode 1).
13303-N |  | Koch Materials Company, Wichita, KS | 49 CFR 174.67(c)(2) and (i) | To authorize an alternative monitoring system for rail cars throughout the steam-heating operation when no product is being transferred. (mode 2).
13304-N |  | Matheson Tri Gas, East Rutherford, NJ | 49 CFR 173.40; 173.304 | To authorize the transportation in commerce of hydrogen sulfide in DOT specification cylinders with a service pressure of 480 PSIG. (modes 1, 3).
13305-N |  | Matheson Tri Gas, East Rutherford, NJ | 49 CFR 171.14 | To authorize the transportation in commerce of DOT 5A drums containing a residual amount of certain hazardous materials for disposal. (mode 1).
13306-N |  | Ecolab Inc., St. Paul, MN | 49 CFR 172.312(a); 173.24a(a)(1); 173.22a | To authorize the transportation in commerce of a combination packaging having inner receptacles with closures on the side, i.e., not oriented in the upward direction for used in transporting Organic peroxide, Division 5.2. (modes 1, 2, 3).
13307-N |  | United Phosphorous, Inc., Trenton, NJ | 49 CFR 172.504 | To authorize the transportation in commerce of an aluminum phosphide based pesticide which meets the definition of a Division 4.3 materials to be shipped as aluminum phosphide pesticide, a Division 6.1 (mode 1).
13308-N |  | Florida Air Transport, Pembroke Park, FL | 49 CFR 172.101 Col. 9B; 172.204(c)(3); 173.27(b)(2)(3); 175.30(a)(1) | To authorize the transportation in commerce of Class 1 explosives which are forbidden or exceed quantities presently authorized. (mode 4).
13311-N |  | HazMat Services, Inc., Anaheim, CA | 49 CFR 173.12 | To authorize the transportation in commerce of laboratory reagent chemicals packaged in lab packs to facilitate relocation of laboratory facilities. (mode 1).
13312-N |  | Air Products & Chemicals, Inc., Allentown, PA | 49 CFR 173.301(f)(3); 180.205(c)(4) | To authorize the transportation in commerce of DOT-3, 3A, and 3AA cylinders in chlorine service with a pressure relief device set to discharge at 75% of the test pressure. (modes 1, 3).
13313-N |  | Washington State Ferries, Seattle, WA | 49 CFR 172.101 (col. 10A) | To authorize the transportation in commerce of certain hazardous materials in roll-on, roll-off transport vehicles aboard passenger ferry vessels. (mode 5).
13319-N |  | Dow AgroSciences L.L.C., Indianapolis, IN | 49 CFR 173.301(f)(1) | To authorize the transportation in commerce of sulfuryl fluoride, a Division 2.3, Hazardous Zone D liquefied gas, in DOT specification and certain non-DOT specification cylinders that are not fitted with a pressure relief device. (modes 1, 2, 3).
13321-N |  | Quest Diagnostics, Inc., Collegeville, PA | 49 CFR 173.28(b)(3) | To authorize the transportation in commerce of infectious substances, Division 6.2, in reused specification UN 5L3 textile bags. (modes 1, 4).
13322-N |  | UXB International Inc., Ashburn, VA | 49 CFR 172.320; 173.54(a); 173.56(b); 173.58 | To authorize the transportation in commerce for disposal purposes of certain waste hazardous materials, in non-bulk packaging, by private vehicle for short distances in a specially designed bomb-disposal trailer as the outer packaging. (mode 1).
13325-N |  | Air Products & Chemicals, Inc., Allentown, PA | 49 CFR 173.301(f)(3); 180.205(c)(4) | To authorize the transportation in commerce of certain hazardous materials in certain DOT specification seamless steel cylinders equipped with CG-4 style pressure relief devices with rupture disk at 3360 psig. (modes 1, 2, 3).
13326-N |  | Precision Technik, Inc., Atlanta, GA | 49 CFR 173.301a(f)(1); 173.201; 173.202; 173.203; 173.302; 173.304 | To authorize the manufacture, mark, sale and use of a non-DOT specification, full opening head salvage cylinder for overpacking damaged or leaking cylinders. (mode 1).
13327-N |  | Hawk Corp., Ardmore, OK | 49 CFR 172.101, B15 | To authorize the manufacture, mark, sale and use of manways constructed from glass fiber reinforced plastics for use on cargo tank motor vehicles in transporting certain hazardous materials. (mode 1).
13330-N |  | Oilphase Division, Schlumberger Eval. & Production, Dyce, Aberdeen, Scotland, UK | 49 CFR 173.201(c); 173.202(c); 173.203(c); 173.301(d); 173.304(a) & (d); 175.3; 173.34(d) | To authorize the transportation in commerce of certain flammable gases in a non-DOT specification cylinder used for oil well sampling. (modes 1, 2, 3, 4).
13336-N |  | Renaissance Industries, Sharpsville, PA | 49 CFR 173.302(a)(1); 173.304; 175.3 | To authorize the manufacture, mark, sale and use of a non-DOT specifications cylinder for use in transporting certain classes of hazardous materials. (modes 1, 2, 3, 4, 5).
13337-N |  | Albermarle Corporation, Baton Rouge, LA | 49 CFR 176.83(b) & (d) | To authorize the transportation in commerce of certain cylinders, non-bulk packaging and small portable tanks containing various Division 4.2 and 4.3 materials without meeting segregation requirements. (mode 3).
13338-N |  | Sacramento Municipal Utility District, Herald, CA | 49 CFR 173.403; 173.427(a), (b) & (c); 173.465(c) & (d) | To authorize the transportation in commerce of two steam generators having a Class 7 radioactive material on its surfaces. (mode 2).
13339-N |  | ExxonMobil Chemical Company, Mont Belvieu, TX | 49 CFR 173.242 | To authorize the transportation in commerce of certain pyrophoric solids in non-DOT specification portable tanks comparable to DOT Specification 51 portable tanks with alternative testing criteria. (mode 1).
13343-N |  | Olin Corporation, Winchester Division, East Alton, IL | 49 CFR 173-60(b)(4); 177.834(1)(1) | To authorize the transportation in commerce of trinitroresorcinol, wetted, Class 1.1D, packaged in accordance with the required packaging instruction in motor vehicles equipped with heating and refrigerating (heat-pump) apparatus. (mode 1).
13344-N |  | Precision Technik, Atlanta, GA | 49 CFR 173.301(a)(f)(1); 180.209; 173.201; 173.202; 173.203; 173.302; 173.304 | To authorize the manufacture, marking and sale of a salvage cylinder which does not contain a pressure relief device for use in transporting damaged or leaking gas cylinder. (mode 1).
13345-N |  | Freehold Cartage, Inc., Freehold, NJ | 49 CFR 173.211 | To authorize the one-time transportation of non-bulk packages of solid hazardous materials in specially designed devices of steel construction. (mode 1).
13355-N |  | C L Smith Co., Saint Louis, MO | 49 CFR 173.13(a); 173.13(b); 173.13(c)(1)(ii); 173.13(c)(1)(iv); 173.13(d) | To authorize the transportation in commerce of poison packs without hazard labels. (mode 5).
13356-N |  | Bayshore Vinyl Compounds Inc., Tennent, NJ | 49 CFR 174.67(j) & (i) | To authorize rail cars without adapter fittings to be used for transporting Class 9 hazardous materials.
13357-N |  | Indiana Michigan Power Company, Buchanan, MI | 49 CFR 173.403; 173.427 | To authorize the transportation in commerce of four steam generators containing Class 7 radioactive material. (mode 1, 2).
13359-N |  | BASF Corporation, Mt. Olive, NJ | 49 CFR 173.302(a) | To authorize the transportation in commerce of boron trifluride, a non-liquefied, Division 2.3 (Hazard Zone B) gas in a non-DOT specification spherical pressure vessel. (modes 1, 2, 3).
13385-N |  | Matheson Tri-Gas, Inc., Parsippany, NJ | 49 CFR 172.32b, (e)(2)(ii), 172.203(a) and 172.302(e) | To authorize the transportation of cryogenic helium in 2 UN portable tanks manufactured in Japan and qualified without performing a rail impact test. (modes 1, 3).
13401-N |  | Northern States Power Company dba XCEL Energy Services, Inc., Welch, MN | 49 CFR 173.403; 173.427 | To authorize the transportation in commerce of two steam generators containing Class 7 radioactive material.
13421-N |  | SMI Companies, Franklin, LA | 49 CFR 173.243(c) | To authorize the manufacture, mark, sale and use of a non-DOT specification portable tank equipped with an external bottom discharge valve. (modes 1, 3).
13424-N |  | Air Products & Chemicals, Inc., St. Gabriel, LA | 49 CFR 177.834(i)(3) | To authorize cargo tanks to remain connected while standing without the physical presence of an unloader. (mode 1).
13426-N |  | Capintec, Inc., Pittsburgh, PA | 49 CFR 173.302; 175.3 | To authorize the transportation in commerce of non-DOT specification containers for use in transporting Argon, Division 2.2. (modes 1, 4, 5).
13441-N |  | Eastman Kodak Company HSE—Hazmat Transportation Services, Rochester, NY | 49 CFR 173.6(a)(1)(ii), 173.6(d) | To authorize the transportation in commerce of limited quantities of waste materials in amounts that exceed the quantity limitations specified under the material of trade exception as defined in 49 CFR. (mode 1).
13443-N |  | Koch Materials Company, Wichita, KS | 49 CFR 173.24(c); 173.202; 173.203; 177.834(h); 173.28(a) and (b) | To authorize the transportation in commerce of alternative shipping containers to be used for non-bulk quantities of chemical additives used in the manufacture of asphalt products. (mode 1).
13445-N |  | U.S. Department of Energy, Richland, WA | 49 CFR 173.211; 173.244 | To authorize the one-time one-way transportation in commerce of a specially designed device containing Sodium, Division 4.3 for recycling purposes. (mode 1).
13481-N |  | Thiokol Propulsion, Brigham City, UT | 49 CFR 172.320, 173.56, 173.57, 173.58 | To authorize the transportation in commerce of not more than 25 grams of liquid explosive substances that have an energy density not greater than pure nitroglycerin, when packed in a special shipping container.
13482-N |  | U.S. Vanadium Corporation (Subsidiary of Strategic Minerals Corporation), Niagara Falls, NY | 49 CFR 172.102 (SP B14) | To authorize the transportation in commerce of certain uninsulated UN portable tanks that are currently authorized for certain hazardous materials, except that the portable tanks do not meet the provisions of Section 172.101 SP B14, which requires insulation. (modes 1, 3).
13483-N |  | Norris Cylinder Company, Longview, TX | 49 CFR 173.301(a)(1); 173.301(a)(2); 173.302a(a)(1) | To authorize the transportation of a non-DOT specification cylinder conforming in part with the DOT-3AA specification, for use in transporting non-liquefied compressed gases. (modes 1, 4).
13484-N |  | Air Liquide America L.P., Houston, TX | 49 CFR 177.834 | To authorize cargo tanks to remain connected while standing without the physical presence of an unloader. (mode 1).
13485-N |  | Taylor-Wharton (Harsco Gas and Fluid Control Group), Harrisburg, PA | 49 CFR 173.301(a); 173.302a; 173.304a(a); 175.3; 180.205(c)(f)(g) | To authorize the manufacture, mark, sale and use of a non-DOT specification cylinder conforming with all regulations applicable to DOT-3AA specification cylinder for use in transporting Division 2.1, 2.2 and 2.3 hazardous materials. (modes 1, 2, 3, 4, 5).
13487-N |  | University of Colorado Health Services Center, Denver, CO | 49 CFR 173.197 | To authorize the one-way transportation in commerce of certain infectious materials in alternative packaging. (mode 1).
13488-N | RSPA-2004-17301 | FABER INDUSTRIE SPA | 49 CFR 173.34(a)(1); 173.301(h); 173.302(a) and 178.37 | To authorize the manufacture, marking, sale and use of non-DOT specification cylinders for use in transporting certain nonflammable gases. (modes 1, 2, 4).
13522-N |  | Green-Port Environmental Managers LTD., Scipio Center, NY | 49 CFR 173.25; 173.29(a); 173.301(a)(9); 177.840 | To authorize the transportation in commerce of DOT-Specification 39 cylinders for disposal in alternative outside packaging. (mode 1).
13542-N | RSPA-2004-17550 | Worthington Cylinders GmbH. A-3291, Kienberg-Gaming | 49 CFR 180.205; 173.301(h); 173.302(a)(1) | To authorize the manufacture, mark, sale and use of non-DOT specification cylinders for use in the transporting certain flammable and nonflammable gases. (modes 1, 2, 3, 4).
13544-N | RSPA-2004-17540 | Blue Rhino Corporation, Winston-Salem, NC | 49 CFR 173.29 | To authorize the transportation in commerce of cylinders containing a residue of propane to be transported as essentially unregulated.
13546-N | RSPA-2004-17547 | RUTGERS Organics Corporation, State College, PA | 49 CFR 171-180 | To authorize the transportation in commerce of certain hazardous materials across a public road from the facility to be transported as essentially unregulated. (mode 1).
13548-N | RSPA-2004-17545 | Continental Battery Company, Dallas, TX | 49 CFR 173.159 | To authorize the transportation in commerce of batters with two different UN numbers on the same transport vehicle. (mode 1).
13549-N | RSPA-2004-17544 | West Island Air Inc., Anacortes, WA | 49 CFR 172.101 Table; Col. (9B); 172.204(c)(3); 173.27(b)(3) and 175.30(a)(1) | To authorize the transportation in commerce of certain Division 1.1, 1.2, 1.3 and 1.4 explosives which are forbidden or exceed quantities presently authorized for transportation. (mode 4).
13551-N | RSPA-2004-17542 | INO Therapeutics LLC, Port Allen, LA | 49 CFR 173.301(1) | To authorize the transportation in commerce of non-DOT specification cylinders that are designed to a foreign specification for use in transporting various hazardous materials. (modes 1, 3).
13554-N |  | The Fertilizer Institute, Washington, DC | 49 CFR 173.315(m) | To authorize the transportation in commerce of anhydrous ammonia in cargo tanks (nurse tanks) without certain specification plate markings operated by private carrier exclusively for agricultural purposes. (mode 1)
13558-N | RSPA-2004-17737 | Boeing Company, Mesa, AZ | 49 CFR 173.62(b) | To authorize the one-time transportation in commerce of munitions to hazardous waste disposal facility in original containers instead of performance-oriented packaging. (mode 1).
13560-N | RSPA-2004-17740 | Texaco Ovonic Hydrogen Systems L.L.C. (TOHS), Rochester Hills, MI | 49 CFR 173.301(a)(1); 173.301(d) | To authorize the transportation in commerce of hydrogen in a metal hydride storage system that utilize non-DOT specification cylinders. (mode 1).
13561-N | RSPA-2004-17741 | Sigma-Aldrich Corporation, Milwaukee, WI | 49 CFR 171-180 | To authorize the one-time transportation in commerce of certain hazardous materials to a new site to be transported as essentially unregulated. (mode 1).
13562-N |  | TRW Vehicle Safety Systems, Inc., Washington, MI | 49 CFR 173.166(e)(4) | To authorize the transportation of airbag inflators, air bag modules and seat belt pretensioners in reusable containers of wooden construction. (mode 1).
13577-N |  | Scott Specialty Gases, Inc., Plumstreadville, PA | 49 CFR 173.306(a)(3)(ii) | To authorize the transportation in commerce of refrigerant 134a to be shipped as a limited quantity compressed gas. (modes 1, 2, 3, 4).
13580-N |  | Carleton Technologies Inc., Orchard Park, NY | 49 CFR 178.65 | To authorize the manufacture, marking, sale and use of non-DOT specification pressure vessels for use in transporting certain compressed gases. (modes 1, 2, 4).
13581-N |  | Bengal Products Inc., Baton Rouge, LA | 49 CFR 173.306(a)(3) | To authorize the transportation in commerce of certain aerosols in packagings manufactured under DOT-E 12573 as consumer commodity ORM-D. (models 1, 2, 3, 4).
13583-N |  | Structural Composites Industries (SCI), Pamona, CA | 49 CFR 178.35 | To authorize the manufacture, marking, sale and use of non-DOT specification DOT-CFFC standard cylinders for use in transporting certain compressed gases.
13599-N |  | Air Products & Chemicals, Inc., Allentown, PA | 49 CFR 173.304a(a)(2) | To authorize the transportation in commerce of certain DOT-specification cylinders with alternative filling densities/ratios. (modes 1, 2, 3).
13601-N |  | DS Containers, Inc., Lemont, IL | 49 CFR 173.306(b)(1); 175.3 | To authorize the transportation in commerce of certain aerosol cans with alternative filling criteria. (modes 1, 2, 3, 4, 5).
13736-N | RSPA-2004-18890 | ConocoPhillips, Anchorage, AK | 49 CFR 172.101 Table, Col. (9B) | To authorize the transportation in commerce of 350-gallon bulk containers for use in transporting certain Class 3 hazardous materials. (mode 4).
13738-N | RSPA-2004-18889 | Department of Energy, Washington, DC | 49 CFR 173.420(a)(4) | To authorize the one-time, one-way transportation of uranium hexafluoride cylinders without overpacks. (mode 1).
13756-N | RSPA-2004-18888 | Ultracore Corp., Park Ridge, IL | 49 CFR Subparts D, E and F of Part 172; 173.24(c) and Subparts E and F of Part 173 | To authorize the transportation in commerce of a specially designed device consisting of a metal tubing containing certain hazardous materials to be transported as essentially unregulated. (modes 1, 2, 3).
13757-N | RSPA-2004-18887 | Maryland Army National Guard, Havre de Grace, MD | 49 CFR 178.800 | To authorize the transportation in commerce of non-specification IBCs for use in transporting certain Division 6.1 hazardous materials.
13856-N | RSPA-2004-19310 | Dow Chemical Company, Midland, MI | 49 CFR 172.203(a); 173.26 and 179.13 | To authorize the manufacture and use of DOT class 111S tank cars exceeding the presently authorized weight limit for use in transporting class 3 materials. (mode 2).
13859-N |  | Degussa Corporation, Parsippany, NJ | 49 CFR 177.848 | To authorize the transportation in commerce of certain hazardous materials to be transported together in the same transport vehicle.
13860-N |  | United States Enrichment Corporation (USEC), Paducah, KY | 49 CFR 173.420(a)(3)(ii) and (iii) | To authorize the transportation in commerce of non-specification DOT cylinders for use in transporting uranimum hexafluoride, class 7. (mode 1).
13876-N |  | City of Kotzebue, Kotzebue, AK | 49 CFR 173.159 | To authorize the transportation in commerce of wet batteries for disposal to be transported in non-DOTspecification packaging. (modes 4, 5).
13936-N | RSPA-2004-19300 | Dow Chemical Company, Midland, MI | 49 CFR 172.203(a); 173.26 and 179.13 | To authorize the transportation in commerce of DOT 112S specification tank cars that exceed the weight requirement for transporting certain hazardous materials. (mode 2).
13937-N | RSPA-2004-19318 | Questar, Inc., North Canton, OH | 49 CFR 173.12(b)(2) | To authorize the manufacture, marking and sale of a corrugated fiberboard box for use as the outer packaging for lab pack applications. (mode 1).
13956-N | RSPA-2004-19320 | U.S. Department of Energy (DOE), Washington, DC | 49 CFR 173.244 | To authorize the one-time, one-way transportation in commerce of two inductions pumps, containing residual amounts of Sodium, Division 4.3. (mode 1).
13959-N | RSPA-2004-19313 | Koch Nitrogen Company, Wichita, KS | 49 CFR 177.834(i)(3) | To authorize cargo tanks to remain connected while standing without the physical presence of an unloader anhydrous ammonia, Division 2.2. (mode 1).
13963-N | RSPA-2004-19299 | Duratek, Columbia, SC | 49 CFR 173.403; 173.427; 173.465 | To authorize the manufacture, marking, sale and use of specially designed packaging for transporting used nuclear reactor pressure vessel heads. (modes 1, 2, 6).
13997-N |  | Maritime Helicopters, Homer, AK | 49 CFR | To authorize the transportation in commerce of Propane in DOT specification 51 portable tanks exceeding the weight limitations authorized for shipment by cargo aircraft in Alaska. (mode 4).
14001-N | RSPA-2004-19646 | Koch Hydrocarbon LP, Medford, OK | 49 CFR 177.834(i)(3); 177.840(q)(1) | To authorize the use of video cameras and monitors to observe the loading and unloading operations of certain hazardous materials from a remote control station in place of personnel remaining within 7.62 meters (25 feet) of cargo tank motor vehicles. (mode 1).
14002-N | RSPA-2004-19645 | BOC Gases, Murray Hill, NJ | 49 CFR 178.338-11(c) | To authorize the use of a cargo tank in oxygen, refrigerated liquid service that is not equipped with a remotely controlled self closing shut-off valve. (mode 1).
14003-N | RSPA-2004-19647 | INOCOM Inc., Riverside, CA | 49 CFR 173.302(a)(1), 173.304(a), 175.3 and 180.205 | To authorize the manufacture, mark, sale and use of non-DOT specification fully wrapped carbon fiber reinforced aluminum lined cylinders for the transportation in commerce of certain Division 2.2 materials. (modes 1, 2, 3, 4, 5).
14039-N |  | Chlorine Service Company, Kingwood, TX | 49 CFR 178.245-1(a) | To authorize the manufacture, marking, sale and use of certain DOT Specification 51 steel portable tanks or UN steel portable tanks conforming with Section VIII, Division 2 of the ASME Code instead of Section VIII, Division 1, for the transportation in commerce of Division 2.1 and 2.2 materials. (modes 1, 2, 3).
14040-N |  | Clean Harbors Environmental Services, Inc., San Diego, CA | 49 CFR 173.304(d) | To authorize the one-time transportation in commerce of foreign cylinders for disposal. (mode 1).
13425-N |  | MDS Nordion, Ottawa, ON | 49 CFR 173.416 | To authorize the transportation in commerce of Class 7 hazardous materials for disposal contained in specially designed equipment. (mode 1).
13896-N |  | FIBA Technologies, Inc., Westboro, MA | 49 CFR 180.211 | To authorize the repair of DOT-3 series cylinders by external re-threading of the cylinder neck. (modes 1, 6).
14004-N | RSPA-2004-19657 | Praxair, Inc., Danbury, CT | 49 CFR 179.13 | To authorize the transportation in commerce of certain Division 2.2 gases in DOT Specification 105J500W tank cars with a maximum gross weight on rail greater than currently authorized.
14097-N |  | S.C. Johnson & Sons, Inc., Racine, WI | 49 CFR 173.306 | To authorize the transportation in commerce of Division 2.2 aerosols of less than 20 ounce capacity in plastic packagings. (modes 1, 2, 4).
EE 10407-M |  | Thermo Measure Tech, Round Rock, TX | 49 CFR 173.3022; 175.3 | To modify the exemption by adding two additinal non-flammable gases (argon and helium), contained in non-DOT specification stainless steel radiation detection devices. (modes 1, 2, 3, 4, 5).
EE 9716-M |  | Scott Health & Safety, Monroe, NC | 49 CFR 173.302(a)(1); 173.304(a), (d); 175.3 | To modify the exemption by adding “air, compressed” to the list of authorized materials in the exemption. (modes 1, 2, 3, 4).
EE 13036-M |  | URS, Morrisville, NC | 49 CFR 173.34(d) | To reissue the exemption originally issued on an emergency basis for the transportation of hydrogen in a non-DOT specification container. (mode 1).
EE 13144-M |  | Baker Petrolite, Bakersfield, CA | 49 CFR 173.226(a) | To modify the exemption to allow “acrolein” a Zone A material to be transported in a 4BW240 cylinder equipped with a pressure relief device. (modes 1, 3).
EE 13133-M |  | Dept of Energy, Albuquerque, NM | 49 CFR 172.320; 173.54(a); 173.56(b); 173.57; 173.58; 173.62 | To modify the exemption to permit only explosives with the potential for sensitivity concerns need pass the UN Series 3 tests. (modes 1, 4).
EE 8561-M |  | Pacific Scientific, Duarte, CA | 49 CFR 173.304(a)(1); 175.3; 178.44 | Emergency request to modify the exemption to incorporate by reference a new drawing for same cylinder with an outlet fitting that has a smaller thread than the original. The part is the same with regard to material of construction, wall thickness, internal volume, service pressures, wall stresses and processing. (modes 1, 2, 4).
EE 13168-M |  | Cleco Energy LLC, Lufkin, TX | 49 CFR 173.302(a)(3) | Emergency request to modify exemption to authorize the transportation of pipeline quality natural gas in an MC 331 cargo tank motor vehicle. (mode 1).
EE 13124-M |  | LA Chemical, Los Angeles, CA | 49 CFR 172.101 special provision IB3 | Emergency request to modify exemption by authorizing cargo vessel transportation. (mode 1).
EE 12893-M |  | U.S. Department of Justice, Washington, DC | 49 CFR 172.101 Column 8C | Emergency request to modify exemption to transport small flexible solid materials that may be contaminated with anthrax. (mode 1).
EE 11536-M |  | The Boeing Company, Los Angeles, CA | 49 CFR 173.302; 173.62; 173.159; 173.304 | Request for emergency modification to the exemption to authorize two containers with different dimensions and add Hydrogen, compressed for spacecraft batteries. (mode 4).
EE 13042-M |  | U.S. Department of State, Sterling, VA | 49 CFR 172.101 Table Column 8C | Emergency request to modify the exemption to authorize larger size solid materials that are contaiminated with or suspected of being contaminated with anthrax bacteria or spores. (mode 1).
EE 7280-M |  | Department of the Army, Fort Eustis, VA | 49 CFR 176.905(d); 176.905(c) | Emergency request to modify the exemption to authorize the transportation in commerce of additional vehicles with fuel tanks ¾ full. (modes 3, 4).
EE 13187-M |  | Radiation Management Services, Cardinal Health, Cleveland, OH | 49 CFR 173.302 | Emergency request to modify the exemption to authorize the transportation in commerce of a mixture of Division 2.2 gases in non-specification packaging. (modes 1, 2, 3).
EE 10996-M |  | AeroTech, Inc., Las Vegas, NV | 49 CFR 173 Subpart C | Emergency modification request to add cargo aircraft as a mode of transportation. (modes 1, 2).
EE 13127-M |  | American Pacific Corporation, Cedar City, UT | 49 CFR 172.102(c) SP IB6 | Emergency request for modification to authorize the transportation in commerce of potassium perchlorate in UN Specification flexible IBCs. (mode 1).
EE 13156-M |  | Phelps Sungas, Geneva, NY | 49 CFR 178.337-14 | Emergency request for modification to authorize continued use of MC 331 cargo tank motor vehicles with specificaiton plates that are missing certain required markings. (mode 1).
EE 13185-M |  | TRW, Washington, MI | 49 CFR 172.101 | To reissue the exemption originally issued on an emergency basis to authorize the transportation in commerce of airbag inflators or modules as Class 9 materials. (mode 1).
EE 9198-M |  | U.S. Department of the Interior, Boise, ID | 49 CFR 175.5(a)(2) | To modify the exemption in order to expand the scope of relief the exemption provides for the use of aircraft which are under the exclusive direction and control of the DOI for periods of less than 90 days. (mode 4).
EE 13144-M |  | Baker Petrolite, Sugar Land, TX | 49 CFR 173.226(a) | Emergency request for modification to provide additional time while we evaluate their previous modification request for a different PRD. (modes 1, 3).
EE 10776-M |  | PSI Plus, Inc., Middletown, CT | 49 CFR 173.302(a)(1); 173.304; 175.3; 178.42 | Application for an emergency modification to add certain Division 2.1 materials for the non-DOT specification cylinders that are authorized under the exemption. (modes 1, 2, 3, 4).
EE 10776-M |  | PSI Plus, Inc., Middletown, CT | 49 CFR 173.302(a)(1); 173.304; 175.3; 178.42 | To modify the exemption by adding a statement in para. 6 that the exemption authorizes all division 2.2 gases that are authorized for a DOT-specification 39 cylinder. (modes 1, 2, 3, 4).
EE 13196-M |  | McLane Company, Inc., Temple, TX | 49 CFR 172.102 special provision N10 | Emergency request to provide additional time to complete testing and certification of packagings. (mode 1).
EE 9198-M |  | U.S. Department of the Interior, Office of Aircraft Service, Boise, ID | 49 CFR 175.5(a)(2) | To modify the exemption by clarifying the carrier requirements in the exemption. (mode 4).
EE 12726-M |  | General Electric Engine Services—Corporation Avi., Phoenix, AZ | 49 CFR 173.34(e); 173.304(a)(1); 173.305; 173.309; 175.3 | To modify the exemption to allow use of cylinders manufactured under DOT-E 10440. (modes 1, 2, 4, 5).
EE 8228-M |  | FBI, Quantico, VA | 49 CFR 173.56(b) | Emergency request to modify the exemption to authorize transportation of explosive samples to FBI offices. (modes 1, 2, 4).
EE 13185-M |  | TRW Automotive, Occupant Safety Systems, Washington, MI | 49 CFR 172.101 | Emergency request to authorize the transportation in commerce of airbag inflators or modules as Class 9 materials. (mode 1).
EE 12855-M |  | Kraton Polymers, Belpre, OH | 49 CFR 173.240; 172.302(c) | Emergency request to modify the exemption to allow the residue of a flammable liquid, corrosive, n.o.s. to be transported in a heat exchanger, one-way for cleaning. (mode 1).
EE 13248-M |  | The Dow Chemical Company, Midland, MI | 49 CFR 172.101(c) | Emergency modification request to authorize additional packagings and additional modes of transportation. (modes 1, 2, 3).
EE 13112-M |  | Conax Florida, St. Petersburg, FL | 49 CFR 173.302; 175.3 | Application for an emergency modification of the exemption to provide relief from 3rd party independent inspection requirements in 49 CFR 178.35(b). (modes 1, 2, 3, 4, 5).
EE 11777-M |  | Autoliv ASP, Inc., Ogden, UT | 49 CFR 173.301(h); 173.302 | To modify the exemption by adding the proper shipping description “Air bag inflators, 1.4G, UN0503, II.” (modes 1, 4).
EE 13169-M |  | ConocoPhillips Alaska, Inc., Anchorage, AK | 49 CFR 172.101(9B) | Emergency request to authorize the transportation in commerce of certain flammable liquids which exceed quantity limitations when transported by cargo aircraft. (mode 4).
EE 12056-M |  | U.S. DOD, Fort Eustis, VA | 49 CFR 173.226; 173.336 | Emergency request to modify the exemption by removing round trip and destination limitations. (modes 1, 3).
EE 13112-M |  | Conax Florida, St. Petersburg, FL | 49 CFR 173.301; 175.3 | To modify the exemption by clarifying language in the exemption to facilitate the use of the cylinders covered under the exemption. (modes 1, 2, 3, 4, 5).
EE 13138-M |  | Alaska Pacific Powder Company, Anchorage, AK | 49 CFR 175.320(a) | To modify the exemption by authorizing an additional shipment of explosives by air from a different destination and origin. (mode 4).
EE 12871-M |  | Southern California Edison (SCE), San Clemente, CA | 49 CFR 173.427(a); 173.427(b)(c); 173.403; 173.411; 173.465(c) and (d) | To modify the exemption to authorize route changes for the one-time transportation of a package containing a nuclear generating-station reactor pressure vessel having Class C waste internal components by cargo vessel and motor vehicle for disposal. (modes 1, 2, 3).
EE 12726-M |  | American Airlines, Inc., Tulsa, OK | 49 CFR 173.34(e); 173.304(a)(1); 173.305; 173.309; 175.3 | Application for an emergency modification to the exemption by adding “DOT-E 10964” to the list of authorized exemptions referenced in DOT-E 12726. (modes 1, 2, 4, 5).
EE 10869-M |  | Norris Cylinder Company, Longview, TX | 49 CFR 173.301(b); 173.302(a)(5); 173.304(a); 175.3 | To modify the exemption to reference an updated drawing. (modes 1, 2, 3, 4, 5).
EE 13323-M |  | Integrated Ocean, Drilling Program | 49 CFR 173.301 | To reissue the exemption originally issued on an emergency basis for the transportation of certain gases in non-DOT specification cylinders. (modes 1, 4, 5).
EE 13358-M |  | Pacific Bio-Material Management, Inc., Fresno, CA | 49 CFR 173.196, 172.200; 178.609 | To modify the emergency exemption by extending the expiration date due to the delay in the transportation of infectious substances in alternative packages. (mode 1).
EE 9198-M |  | U.S. Dept. of the Interior, National Business Center, Aviation Management, Boise, ID | 49 CFR 175.5(a)(2) | To modify the exemption by adding language that clarifies the exemption. (mode 4).
EE 8554-M |  | Dyno Nobel Inc., Salt Lake City, UT | 49 CFR 173.93; 173.114a; 173.154 | To modify the exemption by adding an authorization for the use of certain non-DOT specification cargo tanks. (modes 1, 3).
EE 13069-M |  | GSA, Washington, DC | 49 CFR 173.196 | Emergency request to modify the exemption to allow additional time and provide packaging for contaminated mail. (mode 1).
EE 8228-M |  | ATF, Beltsville, MD | 49 CFR 173.56(b) | To modify the exemption to add an additional shipping description to the list of authorized materials in the exemption. (modes 1, 2, 4).
EE 10915-M |  | Luxfer Gas Cylinder, Riverside, CA | 49 CFR 173.302(a)(1); 173.304(a)(d); 175.3; 173.34(e) | To modify the exemption for valve design improvements to permit more rapid deployment of valves on non-DOT specification cylinders used by the paintball industry. (modes 1, 2, 3, 4, 5).
EE 12238-M |  | Eastman Kodak Company, Rochester, NY | 49 CFR 174.67(i) | To modify the exemption by changing certain safety control measures. (mode 2).
EE 10045-M |  | Federal Express Corporation, Memphis, TN | 49 CFR 173.447(a); 177.842(a); 177.842(b) | Application for an emergency modification to the exemption to change the transportation routes set forth in the initial exemption. (mode 1).
EE 10776-M |  | PSI Plus, Inc., East Hampton, CT | 49 CFR 173.302(a)(1); 173.304; 175.3, 178.42 | To modify the exemption to authorize the use of DOM (drawn-over-mandrel) tubing for the manufacture of non-DOT specification cylinders. (modes 1, 2, 3, 4).
EE 12613-M |  | Nova Chemicals | 49 CFR 172.203(a); 179.13; 173.31(c)(1) | To modify the exemption to authorize the construction of additional tanks under a new certificate of construction (mode 2).
EE 13401-M |  | Northern States Power Company, Welch, MN | 49 CFR 173.403; 173.427 | To modify the exemption to authorize an alternative weld to attach the closure plate to the transition cone of the SGLA. (mode 2).
EE 11798-M |  | Air Products & Chemicals, Inc., Allentown, PA | 49 CFR 173.34(e)(15); 173.34(e)(15)(ii) | To modify the exemption by authorizing an alternative requalification method using ultrasonic examination in lieu of hydrostatic testing for cylinders. (modes 1, 2, 3, 4, 5).
EE 13916-M |  | Honeywell International Inc., Minneapolis, MN | 49 CFR 178.601 | Emergency request to authorize the transportation of certain flammable liquids in combination packages that have not had performance testing. (mode 1).
EE 13138-N |  | Alaska Pacific Powder Company, Olympia, WA | 49 CFR 175.320(a) | Application for an emergency exemption to transport explosives by cargo aircraft, which are forbidden by air. (mode 4).
EE 13139-N |  | JCI Jones Chemicals, Inc., Barberton, OH | 49 CFR 173.24 | Application for an emergency exemption to transport a leaking ton container that has been fitted with an emergency A kit to prevent leaking during transportation. (mode 1).
EE 13140-N |  | Transportation Services Unlimited, Tampa, FL | 49 CFR 173.24 | Application for an emergency exemption to transport a leaking ton container that has been fitted with an emergency A kit to prevent leaking. (mode 1).
EE 13141-N |  | Airgas Specialty Gases, Cheshire, CT | 49 CFR 173.301(f); 172.301(c) | Emergency request to transport a DOT specification 4BW240 cylinder containing sulfur dioxide which developed a leak and has a Chlorine Institute A kit applied. (mode 1).
EE 13142-N |  | JCI Jones Chemicals, Milford, VA | 49 CFR 173.24 | Application for an emergency exemption to transport a leaking ton container that has been fitted with an emergency A kit. (mode 1).
EE 13143-N |  | GS Battery (USA), Inc., City of Industry, CA | 49 CFR 178.159(g)(h) | Application for an emergency exemption to authorize the transportation of battery fluid in non-DOT specification packaging. (mode 1).
EE 13144-N |  | Baker Petrolite, Sugar Land, TX | 49 CFR 173.226(a) | Application for an emergency exemption to transport a Division 6.1 inhalation hazard material in Hazard Zone A in a seamless specification 4BW240 cylinder. (modes 1, 3).
EE 13146-N |  | DPC Industries, Inc., Houston, TX | 49 CFR 173.24 | Application for an emergency exemption to transport a leaking ton container that has been fitted with a B kit. (mode 1).
EE 13147-N |  | Transportation Services Unlimited, Inc., Tampa, FL | 49 CFR 173.24 | Application for an emergency exemption to transport a leaking cylinder that has been fitted with a B kit. (mode 1).
EE 13148-N |  | JCI Jones Chemicals, Inc., Caledonia, NY | 49 CFR 172.302(c); 179.300-12(b); 179.300-13(a); 179.300-14 | Application for an emergency exemption to transport a DOT specification 106A500 multi-unit tank car tank containing chlorine that developed a leak and has been fitted with a Chlorine Institute emergency “B” kit. (mode 1).
EE 13150-N |  | JCI Jones Chemicals, Inc., Beech Grove, IN | 49 CFR 173.24 | Application for an emergency exemption to transport a leaking ton container that has been fitted with a B kit to prevent leaking during transportation. (mode 1).
EE 13151-N |  | JCI Jones Chemicals, Barberton, OH | 49 CFR 173.24 | Application for an emergency exemption to transport a leaking ton cylinder that has been fitted with a B kit. (mode 1).
EE 13152-N |  | Harcros Chemicals Inc., Kansas City, KS | 49 CFR 173.301(c); 173.301(f) | Emergency request to transport a DOT specification 3A480 cylinder containing chlorine that developed a leak and has a Chlorine Institute A kit applied. (mode 1).
EE 13153-N |  | Airgas-Southwest, Inc., Corpus Christi, TX | 49 CFR 172.301(c); 173.301(f) | Emergency request to transport a DOT specification 3A480 cylinder contianing chlorine that has a leak and is equipped with a Chlorine Institute A kit. (mode 1).
EE 13154-N |  | WNV Sales, Inc., Miami, FL | 49 CFR 173.21(i) | Emergency request to export lighters that have not been examined and approved in accordance with the HMR. (mode 3).
EE 13155-N |  | Cabot Performance Materials, Boyerton, PA | 49 CFR 173.244 | Application for an emergency exemption to authorize the one-time shipment of 2 bulk vessels (non-DOT spec) containing sodium. (mode 1).
EE 13156-N |  | Phelps Sungas, Inc., Geneva, NY | 49 CFR 178.337-14 | Application for an emergency exemption to transport propane in eight certain MC-331 cargo tank motor vehicles that have specification plates that are missing certain required markings and have other markings that are smaller than the required size. (mode 1).
EE 13157-N |  | Harcros Chemicals, Kansas City, KS | 49 CFR 173.24 | Application for an emergency exemption to transport a leaking ton container that has been fitted with a B kit. (mode 1).
EE 13158-N |  | Transportation Services Unlimited, Inc., Miami, FL | 49 CFR 172.302(c); 179.300-12(b); 179.300-13(a); 179.300-14 | Emergency request to transport a DOT specification 106A500X multi-unit tank car tank containing sulfur dioxide that developed a leak and has a Chlorine Institute B kit applied. (mode 1).
EE 13159-N |  | JCI Jones Chemicals, Torrance, CA | 49 CFR 173.24 | Application for an emergency exemption to transport a leaking ton container that has been fitted with a B kit. (mode 1).
EE 13168-N |  | Cleco Energy LLC, Lufkin, TX | 49 CFR 173.302(a)(3) | To authorize the emergency transportation in commerce of compressed natural gas in MC-331 cargo tanks at a fill pressure below the marked MAWP on the tank. (mode 1).
EE 13169-N |  | Conoco Phillips Alaska, Inc., Anchorage, AK | 49 CFR 172.101(9B) | To authorize the transportation in commerce of flammable liquids which exceed that quantity limitations when transproted by cargo aircraft. (mode 4).
EE 13170-N |  | Premier Industries, Fridley, MN | 49 CFR 173.302a(1) | Emergency request to transport in commerce welded non-DOT specification pressure vessels containing compressed air. (modes 1, 2, 4, 5).
EE 13171-N |  | American Waste Industries, Inc., Norfolk, VA | 49 CFR 172.101; 172.302 | To authorize the transportation in commerce of a non-DOT specification bulk container containing solid waste materials commingled with regulated medical waste. (mode 1).
EE 13184-N |  | Lammico, Inc. | 49 CFR 173.21(i); 172.301(c) | Emergency request for the one-time one-way transportation in commerce of 411 cases of unapproved cigarette lighters for export only. (mode 3).
EE 13185-N |  | North American Automotive Haxmat Action Committee, Washington, MI | 49 CFR 172.101 | To authorize the transportation in commerce of airbag inflators or modules as class 9 materials with the UN number 3268. (mode 1).
EE 13187-N |  | Syncor Radiation Management, Cleveland, OH | 49 CFR 173.302 | Emergency request to authorize the transportation in commerce of compressed gas in a non-specification plastic pressure vessel. (modes 1, 2, 3).
EE 13189-N |  | Holston Army Ammunition Plant, Kingsport, TN | 49 CFR 173.31; 180.509 | Emergency request to authorize the transportation in commerce of four DOT Specification 111A100W6 stainless steel tank cars which are overdue for scheduled maintenance. (mode 1).
EE 13193-N |  | Delta Airlines | 49 CFR 172.101 HMT Column 9A | Emergency request to authorize the transportation of more than 3200 pounds of Division 1.4S ammunition on passenger carrying aircraft. (mode 5).
EE 13195-N |  | Micro Parts Inc., Easgan, MN | 49 CFR 173.240 | Emergency request for the transportation in commerce of a DOT Specification IBC containing hazard waste solid. The IBC has a small crack and is transported on a base support pallet and enclosed in a double bag of 4 mil plyethylene plastic. (mode 1).
EE 13196-N |  | McLane Company Inc., Temple, TX | 49 CFR 172.102 special provision N10 | Emergency request to authorize the transportation in commerce of lighters in a plastic tote that meets packing group II performance level but is not marked. (mode 1).
EE 13197-N |  | Chevron Texaco | 49 CFR 173.212 | Emergency request to authorize the transportation in commerce of hydrogen in metal hydride in alternative packaging. (mode 1).
EE 13198-N |  | MI L.L.C., Anchorage, AK | 49 CFR 172.101 HMT Column 9B; 173.203 | Emergency request to authorize the transportation in commerce of a Class 8 material in alternative packaging and exceeding the quantity limits by cargo aircraft only where no other means of transportation is available. (modes 1, 4).
EE 13204-N |  | Esoterix, Inc., Austin, TX | 49 CFR 173.197 | Emergency request to authorize the transportation in commerce of regulated medical waste in alternative packaging. (modes 1, 4, 5).
EE 13205-N |  | Western Propane Gas Association, Sacramento, CA | 49 CFR 173.315(j)(4) | Emergency request to authorize the transportation in commerce of non-specification portable tanks that are built to ASME standards that are 40-70% full of propane. (mode 1).
EE 13207-N |  | BEI Hawaii, Honolulu, HI | 49 CFR 173.32(f)(5) | Emergency request to authorize the transportation in commerce of certain hazardous materials in portable tanks that are loaded between 70 and 76 percent filling density by volume. (mode 1).
EE 13214-N |  | Union Pacific Railroad Company, Omaha, NE | 49 CFR 172.203(a); 173.242(c)(1) | Emergency request to authorize the transportation in commerce of certain Division 1.1, 1.2 and 1.3 explosives by rail without conforming to the positioning requirements of 49 CFR 174.85 for purposes of national security. (mode 1).
EE 13216-N |  | Autoliv/General Motors Corporation, Ogden, UT | 49 CFR 172.704(a)(1) | Application for an emergency exemption to authorize the shipments of airbags and seatbelt pretensioners being recalled. The applicant requests relief from section 172.704 which addresses the general awareness/familiarization training. (modes 1, 3).
EE 13217-N |  | Belshire Environmental Services, Inc., Lake Forest, CA | 49 CFR 173.202 | Emergency request to authorize the transportation in commerce of gasoline in equipment (gasoline dispensers) by highway. (mode 1).
EE 13223-N |  | DuPont SHE Excellence Center, Wilmington, DE | 49 CFR 172.102(c)(7)(iv) SP T50 | Emergency request to authorize the transportation in commerce of an IMO Type 5 portable tank containing difluoromethane which does not meet the MAWP specified by the Hazardous Materials Regulation. (mode 1).
EE 13224-N |  | Bayer Polymers, LLC, Baytown, TX | 49 CFR 173.32(a)(2) | Request for an emergency exemption to authorize the transportation in commerce of certain DOT specification IM101 portable tanks that were filled with hazardous materials after the 5 hydrostatic test and periodic inspection had become due. (mode 1).
EE 13230-N |  | FIBA Technologies, Inc., Westboro, MA | 49 CFR 178.35; 178.37; 178.45 | Emergency request to authorize the transportation in commerce of certain cylinders containing hazardous materials that do not fully comply with 49 CFR 178.35, 178.37 and 178.45. (modes 1, 2, 3).
EE 13231-N |  | Crosstex Energy Services, Corpus Christi, TX | 49 CFR 173.302(a) | Emergency request to authorize the transportation in commerce of compressed natural gas in certain DOT specification MC 331 cargo tank motor vehicles. (mode 1).
EE 13236-N |  | Transport Logistics International, Burtonsville, MD | 49 CFR 171.12; 172.400 | Emergency request to authorize the transportation in commerce of certain radioactive materials that are not properly labeled. (modes 1, 3).
EE 13240-N |  | ATC Associates, Inc., Indianapolis, IN | 49 CFR 173.306(a)(4)(iii) | To authorize the emergency transportation of non-pressurized gas samples in a packaging that exceed quantity limitations. (mode 1).
EE 13241-N |  | AmeriGas Inc., Vineyard Haven, MA | 49 CFR 173.304a(a)(1) | To authorize the one-time one-way transportation in commerce of propane in a non-DOT specification, ASME coded storage tank pressure vessel by private motor vehicle for approximately 2 miles. (mode 1).
EE 13242-N |  | U.S. EPA, Atlanta, GA | 49 CFR 172.101(c); 172.202 | Emergency request to authorize the one way transportation in commerce of 130 drums containing corrosive liquid in nonspecification packaging when transported and escorted by an EPA emergency response contractor. (mode 1).
EE 13243-N |  | Rhodia Inc., Cranbury, NJ | 49 CFR 173.188 | Emergency request to authorize the transportation in commerce of yellow phosphorus under water in alternative packaging. (mode 1).
EE 13248-N |  | The Dow Chemical Company, Midland, MI | 49 CFR 172.101(c) | To authorize the transportation in commerce of 1H1 plastic drums containing hazardous materials to be transported with alternative shipping name. (modes 1, 2, 3).
EE 13250-N |  | PolyForce Inc., Willits, CA | 49 CFR 173.34(e); 173.301(a)(1); 173.304(a)(1); 173.5 | To authorize the manufacturing, marking, sale and use of brass-lined filament wound cylinders for use in transporting medical oxygen.
EE 13256-N |  | Astaris LLC, St. Louis, MI | 49 CFR 173.28; 173.35 | Emergency request to authorize the one-time one-way transportation in commerce of a damaged IBC containing the residue of a hazardous material. (mode 1).
EE 13258-N |  | FIBA Technologies, Inc., Westboro, MA | 49 CFR 178.35; 178.37; 178.45 | Emergency request to authorize the transportation in commerce of certain cylinders containing hazardous materials that do not fully comply with 49 CFR 178.35, 178.37 and 178.45. (mode 1).
EE 13261-N |  | BNSF Railway, Amarillo, TX | 49 CFR 173.24 | Application for an emergency exemption for the one-time transportation in commerce of a leaking railroad tank car that contains residue of anhydrous ammonia. (mode 2).
EE 13270-N |  | Takata Corporation, Toyko, Japan | 49 CFR 173.301(a); 173.302(a); 175.3 | Application for an emergency exemption to authorize the transportation in commerce of Division 2.1 and 2.2 materials is non-DOD specification pressures vessels (airbags). (modes 1, 2, 3, 4).
EE 13272-N |  | Airgas—Mid South, Tulsa, OK | 49 CFR 173.301(f) | Emergency request to authorize the transportation a DOT specification 4AA480 cylinder containing anhydrous ammonia that has developed a leak and has a Chlorine Institute Emergency A Kit applied. (mode 1).
EE 13273-N |  | Atlantic Waste Disposal, Inc., Waverly, VA | 49 CFR 172.101 col. 8c; 173.197 | Application for an emergency to transport regulated medical waste in a covered walking floor trailer, which is not authorized in the HMR. (mode 1).
EE 13287-N |  | The Dow Chemical Company, Midland, MI | 49 CFR 178.33-9(a); 172.301(c) | Emergency request to authorize the transportation in commerce of certain DOT Specification 2Q metal receptacles with alternative markings. (modes 1, 2, 3, 4, 5).
EE 13288-N |  | Airgas—Mid South, Inc., Tulsa, OK | 49 CFR 172.301(c); 173.301(f) | Emergency request to authorize the transportation in commerce of anhydrous ammonia in a DOT Specification 4AA480 cylinder that developed a leak and has an Ammonia Emergency Kit applied. (mode 1).
EE 13296-N |  | Alaska Pollution Control, Anchorage, AK | 49 CFR 172.101, Column (9B) | Emergency request to authorize the transportation in commerce of 31 55-gallon drums containing xanthates by cargo aircraft only, where the gross weight of the drums exceeds the quantity limitations for cargo aircraft. (mode 4).
EE 13298-N |  | King and Queen Sanitary Landfill, Little Plymouth, VA | 49 CFR 172.101, 173.197 | Emergency request to authorize the one-way transportation in commerce of Regulated Medical Waste in non-specification bulk containers. (mode 1).
EE 13310-N |  | Amvac Chemical Corporation, Los Angeles, CA | 49 CFR 178.3; 178.503 | Emergency request to authorize the transportation in commerce of certain UN specification bags that were incorrectly printed with a specification marking that does not include the “UN” symbol. (modes 1, 2, 3, 4, 5).
EE 13315-N |  | Virginia Hospital Center—Arlington, Arlington, VA | 49 CFR 173.197 | Application for an emergency exemption to transport RMW in a packaging not authorized in the HMR. (mode 1).
EE 13316-N |  | General Dynamics, Hampton, AR | 49 CFR 172; Part 173 | Emergency request to authorize the transportation in commerce of certain unpackaged explosives approximately 25 feet across a public road. (mode 1).
EE 13317-N |  | Matheson Tri-Gas, East Rutherford, NJ | 49 CFR 173.302 | Emergency request to authorize the transportation in commerce of diborane and mixtures thereof in DOT Specification 3AL cylinders. (modes 1, 2, 4).
EE 13318-N |  | Western Industries, Chilton, WI | 49 CFR 173.301; 177.840 | Application for an emergency exemption from the requirement that “after Dec. 31, 2003 a pressure relief device, when installed must be in communication with the vapor space of a cylinder containing a Div. 2.1 material”. (modes 1, 2, 3, 4).
EE 13323-N |  | Texas A&M University/Ocean Drilling Program, College Station, TX | 49 CFR 173.301 | Application for an emergency exemption to transport certain gases in non-DOT specification cylinders. (modes 1, 4, 5).
EE 13331-N |  | BASF Corproation, Mount Olive, NJ | 49 CFR 173.243 | Application for an emergency exemption for the one-time transportation in commerce of a pesticide in a package that is not authorized for that material (mode 1).
EE 13333-N |  | The Boeing Company, Cape Canaveral, FL | 49 CFR 173.172 | Emergency request to authorize the transportation in commerce of a Space Shuttle Orbiter Auxiliary Power Unit subsystem fuel propellant tank containing Hydrazine, anhydrous which does not meet the requirements of 49 CFR 173.172. (modes 1, 4).
EE 13335-N |  | D&D Proves It, Inc., Salina, KS | 49 CFR 173.304 | Emergency request to authorize the transportation in commerce of a non-specification tank containing the residue of a Division 2.1 material. (mode 1).
EE 13350-N |  | The Boeing Company, Cape Canaveral, FL | 49 CFR 173.201 | To authorize the transportation in commerce of four Space Shuttle Orbiter Auxiliary Power units containing the residue of Hydrazine, anhydrous. (modes 1, 4).
EE 13351-N |  | Waste Technology Services, Inc., Niagara Falls, NY | 49 CFR 173.201; 173.211 | To authorize the one-way transportation for disposal of liquid sodium and potassium-sodium alloy in non-specification packaging. (mode 1).
EE 13358-N |  | Pacific Bio-Material Management, Inc., Fresno, CA | 49 CFR 173.196, 172.200; 178.609 | To authorize the one-time transportation of infectious substances in alternative packaging. (mode 1).
EE 13381-N |  | Carleton Technologies, Pressure Technology Division, Westminster, MD | 49 CFR 173.302(a)(1), 173.304(a), 175.3 and 180.205 | To authorize the manufacture, mark, sale and use of a non-DOT specification fully wrapped carbon-fiber cylinders for use as an equipment component aboard military vehicles. (modes 1, 2, 3, 4, 5, 6).
EE 13383-N |  | Clean Harbors, Inc., Braintree, MA | 49 CFR 172.301(a), 172.30(c), 172.400 | To authorize the transportation of packages containing various hazardous materials involved in an accident and subsequent fire, in overpacks without required markings and labels. (mode 1).
EE 13384-N |  | Taylor-Warton, Harrisburg, PA | 49 CFR 172.301 | To authorize the transportation in commerce of certain cylinders that were manufactured under DOT-E 9909 but are erroneously marked DOT-E 9099. (modes 1, 2, 3, 4, 5).
EE 13402-N |  | Solvay Chemicals, Inc., St. Louis, MI | 49 CFR 173.24b(a)(1)(i) | To authorize the transportation in commerce of DOT Specification 110A1000W multi-unit tank car tanks containing sulfur hexafluoride to a filling density different from that required by the HMR.
EE 13442-N |  | PRC-DeSoto International, Mojave, CA | 49 CFR 173.173173(b)(2) | To authorize the transportation in commerce of Clas 3, paints liquids in inner plastic packagings not exceeding 5 L capacity in addition to the glass and metal packagings. (mode 1).
EE 13464-N |  | Hydrite Chemical Company, Brookfield, WI | 49 CFR 173.35(a) and 173.35(b) | Application for an emergency exemption for the one-time, one-way transportation in commerce of a damaged IBC containing the residue of Sulfuric acid. (mode 1).
EE 13501-N |  | Northrop Grumman Space Technology, Redondo Beach, CA | 49 CFR 173.24(b)(1), 173.301(f), 173.302a(a)(1) and 173.304a(a)(2)0 | Application for an emergency exemption to transport in commerce certain non-DOT specification cylinders containing hazardous materials that are installed in satelites. (mode 1).
EE 13502-N |  | Matheson Tri Gas, East Rutherford, NJ | 49 CFR 173.301(j) | Application for an emergency exemption to authorize the transportation in commerce of certain cylinders containing tungsten hexafluoride. (modes 1, 3).
EE 13521-N |  | Brenntag Mid-South, Inc., St. Louis, MO | 49 CFR 173.301(f), 180,209 and 173.304a(a)(2) | Application for an emergency exemption to authorize the one-way, one-time transportation in commerce of a damaged DOT specification cylinder, packaged inside a salvage cylinder meeting all the requirements of DOT-E 9781 except that the damaged cylinder contains sulfur dioxide. (mode 1).
EE 13552-N |  | Astaris LLC, Lawrence, KS | 49 CFR 173.188 | To authorize the transportation in commerce of Waste, Phosphorus, white, under water in alternative packagings. (mode 1).
EE 13555-N |  | Monsanto Company, St. Louis, MO | 49 CFR 171.2(e), 173.24(b)(2). | Application for an emergency exemption to authorize the transportation of a DOT specification IM portable tank which has a leak which is temporarily fixed. The tank contains a residue of phosphorus in water. (mode 1).
EE 13556-N |  | Bio Systems, Inc., Lake Forest, IL | 49 CFR 172.302(c); 173.197(d) | Application for an emergency exemption to transport regulated medical waste in containers that are not leak-proof per 173.197(d). (mode 1).
EE 13565-N |  | H.C. Starck, Inc., Newton, MA | 49 CFR 173.211 | To authorize the transportation in commerce of sodium in alternative packaging (an accumulator). (mode 1).
EE 13566-N |  | Orbital Sciences Corporation, Dulles, VA | 49 CFR applicable sections in Parts 172 and 173 | Application for an emergency exemption to authorize the transportation in commerce of the DART spacecraft from its assembly site in VA to the launch site in CA. Relief is sought from shipping paper requirements, marking, labeling, placarding and certain packaging requirements. (mode 1).
EE 13567-N |  | Cott Concentrates—a division of Cott Beverages, Inc., Columbus, GA | 49 CFR 172.301(a) | Application for an emergency exemption to authorize transportation in commerce of certain UN 4G boxes that have not met certain recertification requirements for the ground transportation of corrosives and flammable liquids.
EE 13568-N |  | Spectrum Astro, Inc., Gilbert, AZ | 49 CFR 173.3301(a)(1) & 173.301(f) | An application for an emergency exemption to authorize the transportation in commerce of non-DOT propellant tanks fully pressurized for use in a space vehicle flow system. (mode 1).
EE 13596-N |  | Honeywell International Inc., Minneapolis, MN | 49 CFR 173.301(f)(5) | To authorize the transportation in commerce of DOT Specification 3E cylinders that are over 12 inches in length without pressure relief devices. (modes 1, 4, 5).
EE 13616-N |  | U.S. Department of Commerce, Anchorage, AK | 49 CFR 172.101 Column 9B | To authorize the transportation in commerce of helium in DOT-specification cylinders that are manifolded together and exceed the quantity limitation for cargo aircraft only. (mode 4).
EE 13656-N |  | DesertAir, Anchorage, AK | 49 CFR 172.101 col. 9b | Application for an emergency exemption to transport polychlorinated biphenyls by cargo aircraft. The shipment will exceed the weight limitation specified in 172101(9b). (mode 4).
EE 13677-N |  | U.S. Department of Defense, Fort Eustis, VA | 49 CFR 173.3, 172.301(c) and 172.302(c) | Application for an emergency exemption to authorize certain cylinders that have been fitted with an A kit. The shipment would be by cargo vessel. (mode 3).
EE 13716-N |  | Vaspar Corporation, Minneapolis, MN | 49 CFR 172.301(a) | Application for an emergency exemption to authorize the one-time transportation in commerce of pails containing flammable liquid that are not marked with the proper shipping name and UN number on the pail. (mode 1).
EE13796-N |  | Rhodia, Inc., Cranbury, NJ | 49 CFR 173.188 | Application for an emergency exemption to authorize the transportation in commerce of waste, phosphorus, white under water in alternative packaging. (mode 1).
EE13836-N |  | Crossett, Inc., Warren, PA | 49 CFR | To authorize the one-time, one-way transportation in commerce of a DOT Specification 406 cargo tank that has been damaged and contains the residue of gasoline. (mode 1).
EE13916-N |  | Honeywell International Inc., Minneapolis, MN | 49 CFR 178.601 | To authorize the transportation in commerce of flammable liquid in combination packaging consisting of a tested inner plastic drum and a tested outer steel drums without performance testing as a combination packaging. (mode 1).
EE13939-N |  | Kuehne Chemical Company, South Kearny, NJ | 49 CFR 173.24(b), 173.24(f) 173.315 and 177.840(f) | Application for an emergency exemption to authorize the one-time transportation in commerce of a leaking cargo tank, containing chlorine, that has been fitted with an emergency C kit to prevent leaking during transportation. (mode 1).
EE13961-N | RSPA-2004-1929 | 3AL Testing, Corp., Miami, FL | 49 CFR 180.205(f), (g); 180.209(a); 172.203(a); 172.301(c) | To authorize an alternative requalification method for DOT-3AL cylinders. (modes 1, 3, 4).
EE13976-N |  | Osmose Utilities Services, Inc., Buffalo, NY | 49 CFR 172.504(a) | Application for an exemption to transport telephone poles containing a 6.1, pkg. group I, zone B, without placards. (mode 1).
EE13977-N |  | Aethra Aviation Technologies, Farmingdale, NY | 49 CFR 173.302a; 175.3 | To authorize the transportation in commerce of certain cylinders that are charged in excess of their marked pressure. (modes 1, 2, 3, 4, 5).
EE13996-N |  | North American Automotive Hazardous Material Action Committee (NAAHAC), Washington, MI | 49 CFR 173.166(e)(4) | To authorize the transportation in commerce of airbag inflators/modules/pyrotechnic seat belt pretenioners in reusable high strength plastic or metal containers or dedicated handling devices. (modes 1, 2).
EE13998-N | RSPA-2004-1965 | 3Al Testing Corp., Denver, CO | 49 CFR 180.205(f)(g); 180.209(a), (b)(I)(iv); 172.203(a); 172.302a(b)(2), (4)(5) | To authorize an alternative requalification method for DOT-3A, DOT-3AA, DOT-3AX and DOT-3AAX steel cylinders. (modes 1, 3, 4).
EE14005-N |  | Scientific Cylinder International, LLC, Lakewood, CO | 49 CFR 172.203(a), 172.301(c), 180.205(f)(4), 180.205(g), 180.209(a) | To authorize the transportation in commerce of certain compressed gases in DOT specification 3A, 3AA, 3BN, and certain DOT exemption cylinders when retested by 100 percent ultrasonic examination and external visual inspection in lieu of internal visual inspection and the hydrostatic retest. (modes 1, 2, 3, 4, 5, 6).
EE14006-N |  | Scientific Cylinder International, LLC, Lakewood, CO | 49 CFR 172.203(a), 172.301(c), 180.205(f)(4), 180.205(g), 180.209(a) | To authorize the transportation in commerce of certain compressed gases in DOT specification 3AL, cylinders, made from aluminum alloy 6061 T-6, when retested by 100 percent ultrasonic examination and external visual inspection in lieu of internal visual inspection and the hydrostatic retest. (modes 1, 2, 3, 4, 5, 6).
EE14016-N |  | Air Products & Chemicals, Inc., Allentown, PA | 49 CFR 180.209 | To authorize the transportation in commerce of certain 3BN cylinders that have an external visual examination performed in lieu of the 5 year retest requirement in 49 CFR 180.209. (modes 1, 2, 3).
EE14056-N |  | Colombia Helicopters, Inc., Portland, OR | 49 CFR 172.101 column 9B, 173.32(f)(5), 173.242, and 175.320 | To authorize the transportation in commerce of certain class 3 materials in portable tanks by air to remote areas of the U.S. (mode 4).
EE14098-N |  | Integrated Environmental Services, Inc., Atlanta, GA | 49 CFR 173.315(a) | To authorize an application for a one-time shipment of fluorine gas in a non-specification portable tank. (mode 1).
EE13557-N |  | Plasti-Kote Company, Inc., Medina, OH | 49 CFR 173.24 | Application for an emergency exemption to transport spray paint in aerosol cans of that have been expanding due to a reaction with certain components in the paint. (mode 1).
EE13816-N |  | Dyno Nobel North America, Carthage, MO | 49 CFR 171.2(c), 173.62 | Application for an emergency exemption to transport certain 1.1 materials in 4g fiberboard boxes that no longer meet UN standards due to a change in closure method. (mode 1).
MODIFICATION EXEMPTION WITHDRAWN
11194-M |  | Carleton Technologies, Inc. (Pressure Tech. Div.), Westminster, MD | 49 CFR 173.302(a); 173.304(a); 175.3 | To modify the exemption to authorize utilization of an S-Glass outer overwrap for the non-DOT specification fiber reinforced plastic full composite cylinders transporting certain Division 2.1 and 2.2 gases.
12819-M | RSPA-01-10549 | BBI Biotech Research Laboratories, Frederick, MD | 49 CFR 173.196; 178.609 | To modify the exemption to authorize utilize expanded geographical use for the transportation of certain Division 6.2 materials in specially designed packaging.
12938-M | RSPA-02-11912 | Northrop Grumman Space Technology (Former Grantee: TRW, Inc.), Redondo Beach, CA | 49 CFR 173.24(b)(1); 173.34(d); 173.302(a)(1); 173.304(a) (2) | To modify the exemption to authorize the transportation of a Division 2.1 and additional Division 2.2 material in non-DOT specification containers and DOT Specification cylinders installed in the EOS-PM (AQUA) Satellite or attached to the EOS Satellite Transporter.
11537-M |  | American Development Corporation, Fayetteville, TN | 49 CFR 177.834(h) | To modify the exemption to authorize discharge of a Division 5.1 material from a UN Standard UN31H2 or UN31HA1 Intermediate Bulk Container (IBC) securely mounted to a flatbed trailer, unloaded while on a motor vehicle.
NEW EXEMPTION WITHDRAWN
13160-N |  | Safety-Kleen Services, Inc., Columbia, SC | 49 CFR 173.28(b)(7)(iv)(B) | To authorize the transportation in commerce of 55-gallon and 30-gallon plastic drums and five-gallon jerricans without conducting the leakproofness test on each sample. (modes 1, 2).
13174-N | RSPA-02-14017 | Carleton Technologies Inc., Orchard Park, NY | 49 CFR 173.302(a); 175.3 | To authorize the manufacture, mark, sale and use of non-DOT specifications fully wrapped composite fiber reinforced aluminum lined cylinders for use in transporting helium, Division 2.2.(modes 1, 2, 4).
13218-N |  | Matheson Tri-Gas, East Rutherford, NJ | 49 CFR 173.40(b) | To authorize the transportation in commerce of hydrogen sulfide, Division 2.3 in 3AA480 cylinders which are presently forbidden.
13234-N |  | Quest Diagnostics, Inc., Collegeville, PA | 49 CFR 178.503(f) | To authorize the transportation in commerce of a specially designed packaging made of semi-rigid polyester fabric with polyvinyl chloride backing for use in transporting Division 6.2 hazardous materials. (modes 1, 4).
13276-N |  | Ocenco Inc., Pleasant Prairie, WI | 49 CFR 173.301(f)(5)(i) | To authorize the transportation in commerce of 3AA cylinders pressurized to 2100 psi with oxygen, without the use of a pressure relief device. (modes 1, 4, 5).
13277-N |  | FIBA Technologies, Inc., Westboro, MA | 49 CFR 173.301(f) | To authorize a rupture disk device to be installed only one end of a tube trailer for use in transporting compressed gases. (modes 1, 2, 3).
13342-N |  | Chemical Analytics, Inc., Romulus, MI | 49 CFR 177.848(d) | To authorize the transportation in commerce of non-bulk packagings containing Division 4.2 materials on the same transport vehicle which Class 8 material without meeting certain segregations requirements. (mode 1).
13737-N | RSPA-2004-1890 | Sexton Can Company Inc., Decatur, AL | 49 CFR 173.304a | To authorize the manufacture, mark, sale and use of a DOT Specification 2Q non-refillable cylinder for use in transporting Division 2.1 flammable gas.
13284-N |  | Sovereign Specialty Chemicals, Buffalo, NY | 49 CFR 173.35; 173.242(c & d); 180.352 | To authorize the transportation in commerce of residual amounts of Adhesives, Class 3 in UN designed portable tanks that are currently missing their UN name plates. (mode 1).
13324-N |  | Kidde Aerospace, Wilson, NC | 49 CFR 173.301(f)(3) | To authorize the transportation in commerce of certain fire extinguishers with a lower relief pressure than presently authorized. (modes 1, 3, 4, 5).
13776-N | RSPA-2004-1888 | MHF Logistical Solutions, Cranberry, Twp., PA | 49 CFR 173.427(b)(4) | To authorize the transportation in commerce of gondola cars equipped with a specially designed liner to be classified as an IP-1 package for use in transporting Class 7 hazardous materials. (mode 2).
EMERGENCY EXEMPTION WITHDRAWN
12580-N | RSPA-00-8386 | Matheson Tri Gas, East Rutherford, NJ | 49 CFR 173.301(j) | To modify the exemption to authorize the import of a Division 2.3 material in non-DOT specification foreign cylinders which are charged for export only. (mode 1).
13203-N |  | UXB International Inc., Ashburn, VA | 49 CFR 173.56(b) | Emergency request to authorize the transportation in commerce of certain unapproved explosives for disposal. (mode 1).
13227-N |  | Florida Department of Health, Jacksonville, FL | 49 CFR 173.158 | Application for an emergency exemption to transport limited quantities of nitric and chloracetic acid without labeling and placarding. (mode 1).
13260-N |  | Takata Corp., Tokyo | 49 CFR 173.306(a) | Application for an emergency exemption to authorize the use of non-DOT specification packagings charged with limited quantities of compressed gas for use in automobile safety systems. (modes 1, 2, 3, 4).
13332-N |  | Airgas, Inc., Radnor, PA | 49 CFR 173.301a(c) | Application for an emergency exemption from the requirement that when a cylinder is offered for transportation, the pressure in a cylinder at 21 degrees C must not exceed the service pressure for which the cylinder is marked or designated. (mode 1).
13340-N |  | Airgas Inc., Radnor, PA | 49 CFR 173.301a(c) | To authorize the transportation in commerce of DOT Specification 3A, 3AA or 3AL cylinders filled with non-liquefied compressed gases with alternative filling and marking capacity. (modes 1, 2, 4).
13545-N |  | Department of Health and Human Services, Anchorage, AK | 49 CFR 175.85 | To authorize the transportation of diagnostic specimens as checked baggage on a passenger-carrying aircraft. (mode 5).
13696-N |  | Skyline Helicopters Ltd., Kelowna, BC | 49 CFR 172.101(9b) | Application for an emergency exemption to transport 2000 lbs. of explosives in an external load via helicopter, which is forbidden in the HMR. (mode 4).

DENIED
10996-M | Request by AeroTech, Inc. (Industrial Solid Propulsion, Inc.) Cedar City, UT To modify the exemption to authorize the transportation of an additional Division 1.4C material in certain rocket motor and rocket motor reloading kits. August 20, 2003 To modify the exemption to authorize the transportation of an additional Division 1.4C material in certain rocket motor and rocket motor reloading kits.
11827-M | Request by Blue Express, Inc. Osaka, 590-0960, Japan, To modify the exemption to authorize the transportation of an additional Division 6.1 material in certain lined DOT Specification portable tanks and UN Standard Intermediate Bulk Containers. June 20, 2003 To modify the exemption to authorize the transportation of an additional Division 6.1 material in certain lined DOT Specification portable tanks and UN Standard Intermediate Bulk Containers.
12779-M | Request by Matheson Tri-Gas Parsippany, NJ To modify the exemption to authorize the use of additional units with minor design changes for the transportation of a Division 2.2 material. July 06, 2004 To modify the exemption to authorize the use of additional units with minor design changes for the transportation of a Division 2.2 material.
10996-M | Request by Kosdon Enterprises Ventura, CA To modify the exemption to authorize the transportation of a Division 1.4S material, when shipped in quantities and packagings authorized by the exemption. September 24, 2003 To modify the exemption to authorize the transportation of a Division 1.4S material, when shipped in quantities and packagings authorized by the exemption.
13181-M | Request by Thermo MF Physics Colorado Springs, CO To modify the exemption to authorize a design change of the high voltage accelerator system for the transportation of a Division 2.2 material. April 29, 2004 To modify the exemption to authorize a design change of the high voltage accelerator system for the transportation of a Division 2.2 material.
12674-M | Request by G & S Aviation Donnelly, ID To modify the exemption to authorize an increase of the maximum amount of Division 2.1 material from 60 pounds to 80 pounds net product aboard each passenger-carrying aircraft April 27, 2004 To modify the exemption to authorize an increase of the maximum amount of Division 2.1 material from 60 pounds to 80 pounds net product aboard each passenger-carrying aircraft.
10791-M | Request by Con-Quest Products, Inc. Elk Grove Village, IL To modify the exemption to authorize a design change of the UN 4G fiberboard box filled with a polyethylene film bag liner for the transportation of various Hazard Class/Division waste hazardous materials. January 04, 2005 To modify the exemption to authorize a design change of the UN 4G fiberboard box filled with a polyethylene film bag liner for the transportation of various Hazard Class/Division waste hazardous materials.
9266-M | Request by Eurotainer SA Paris, FR To modify the exemption to authorize the transportation of an additional Division 2.2 material in non-DOT specification IMO Type 5 portable tanks. June 28, 2004 To modify the exemption to authorize the transportation of an additional Division 2.2 material in non-DOT specification IMO type 5 portable tanks.
11646-M | Request by Bundit Vesta, MN To modify the exemption to authorize the transportation of additional Class 3 materials unloaded from drums and/or intermediate bulk containers without removal from motor vehicles. March 29, 2004 To modify the exemption to authorize the transportation of additional Class 3 materials unloaded from drums and/or intermediate bulk containers without removal from motor vehicles.
13162-N | Request by Exact Sciences Corporation Maynard, MA February 13, 2003 To authorize the transportation in commerce of diagnostic specimens, Division 6.2, in quantities greater than presently authorized, to be transported as unregulated.
13176-N | Request by Union Pacific Railroad Company Omaha, NE March 28, 2005 To authorize a bulk packaging of aluminum smelting by-products, Division 4.3, transported by rail to be switched under its own momentum.
13177-N | Request by Quality Containment Company Owensboro, Ky April 08, 2003 To authorize the manufacturing, mark, sell and use of non-DOT specification full opening head, steel salvage cylinders for over packaging damaged or leaking chlorine and sulfur dioxide cylinders.
13225-N | Request by Quantum Technologies Irvine, CA December 01, 2004 To authorize the transportation in commerce of hydrogen and compressed natural gas in non-DOT specification carbon filament would reinforced polymer lined composite cylinders.
13228-N | Request by AirSep Creekside Corp. Buffalo, NY May 14, 2003 To authorize the transportation in commerce of a portable oxygen device consisting of a high pressure cylinder.
13238-N | Request by Bayer Corporate and Business Services Pittsburgh, PA May 15, 2003 Request to authorize the transportation in commerce of a material poisonous by inhalation, Zone A, in drums that do not meet the minimum thickness required and ore not further packed into a 1A2 or 1H2 drum.
13265-N | Request by Aeropress Corporation Shreveport, LA Marcha 02, 2005 To authorize the transportation in commerce of dimethyl ether, in MC-331 cargo tanks with a minimum design pressure of 175 psig.
13271-N | Request by 3N International, Inc. Flushing, NY July 29, 2003 To authorize the transportation of a hazardous substance in a non-specification IBC.
13320-N | Request by Bowgen Fuel Systems, Inc. Springfield, MO April 23, 2004 To authorize the manufacture, mark, sale and use of certain non-DOT specification fiber reinforced plastic hoop wrapped cylinders horizontally mounted and secured to a motor vehicle for use in transporting compressed natural gas.
13328-N | Request by USDA Forest Service Missoula, MT November 14, 2003 To authorize the transportation in commerce of non-specification packaging for use in transporting Class 3 hazardous materials.
13360-N | Request by The Dezac Group Ltd. Cheltenham, Gloucestershire, UK March 22, 2004 To authorize the transportation in commerce of an aerosol-style container containing only a non-flammable, liquefied compressed gas to be transported as a limited quantity and/or ORM-D Consumer Commodity.
13361-N | Request by Fireboy-xintex, Inc. Grand Rapids, MI June 09, 2004 To authorize the transportation in commerce of non-DOT specification cylinders charged up to 240 psi for use in transporting liquefied compressed gas.
13423-N | Request by E.I. DuPont de Nemours & Company, Inc. Wilmington, DE December 01, 2004 To authorize the transportation in commerce of Division 6.1 toxic liquid in DOT-specification cylinders that have been manifolded or interconnected.
13461-N | Request by FIBA Technolgoies, Inc. Westboro, MA February 15, 2005 To authorize the manufacture, mark, sale and use of non-DOT Specification 3 series and 3T cylinders having one pressure relief device for use in transporting Division 2.1 and 2.2 non-liquefied compressed gases.
13559-N | Request by The Dow Chemical Company Midland, MI December 01, 2004 To authorize an alternative method of testing DOT-Specification 51 portable tanks for use in transporting certain Division 2.2 materials.
13578-N | Request by Scott Specialty Gases, Inc. Plumsteadville, PA September 15, 2004 To authorize the transportation in commerce of certain non-DOT specification inside metal containers similar to a DOT specification 2Q for use in transporting certain Division 2.1 material.
13938-N | Request by Questar, Inc. North Canton, OH January 21, 2005 To authorize the manufacture, mark, sale and use of corrugated fiberboard boxes for use as the outer packaging for lab pack applications.
14009-N | Request by United States Can Company Elgin, IL March 02, 2005 To authorize the transportation in commerce of DOT-2Q receptacles with an alternative wall thickness for use in transporting ORM-D, Division 2.1 and Division 2.2.
13576-N | Request by Scott Specialty Gases, Inc. Plumsteadville, PA September 15, 2004 To authorize the transportation in commerce of certain compressed gases in DOT specification 2Q containers.
13579-N | Request by Scott Specialty Gases, Inc. Plumsteadville, PA September 15, 2004 To authorize the transportation in commerce of certain Division 2.2 compressed gases in DOT specification 2Q containers.
13226-N | Request by FMC Corporation Buffalo, NY April 24, 2003 Emergency request to authorize the transportation in commerce of calcium peroxide which meet the criteria for PG I to be packaged in UN4G drums meeting the PG II performance level.
13255-N | Request by Bowgen Fuel Systems, Inc. Springfield, MO June 20, 2003 Emergency request to authorize the transportation in commerce of Compressed Natural Gas in alternative packaging.
13386-N | Request by Quad County Corn Processors Galva, IA April 28, 2004 application for an emergency exemption to use non-DOT specifications nurse tank to transport anhydrous ammonia.

[FR Doc. 05-8625 Filed 5-2-05; 8:45 am]

BILLING CODE 4909-60-M